ENVIRONMENTAL PROTECTION AGENCY

40 CFR Part 63

[FRL-7214-7]

RIN 2060-AG29

National Emission Standards for Hazardous Air Pollutants: Rubber Tire Manufacturing

AGENCY: Environmental Protection Agency (EPA).

ACTION: Final rule.

SUMMARY: This action finalizes national emission standards for hazardous air pollutants (NESHAP) for new and existing sources at rubber tire manufacturing facilities. The EPA has identified rubber tire manufacturing facilities as major sources of hazardous air pollutants (HAP) emissions. These standards will implement section 112(d) of the Clean Air Act (CAA) by requiring all such major sources to meet HAP emission standards that reflect the application of maximum achievable control technology (MACT). The primary HAP that will be controlled with this action include toluene and hexane. These HAP are associated with a variety of adverse health effects including chronic health disorders (e.g., polyneuropathy, degenerative lesions of the nasal cavity) and acute health disorders (e.g., respiratory irritation, headaches).

EFFECTIVE DATE: July 9, 2002.

ADDRESSES: Docket. All information considered by the EPA in developing this rulemaking, including public comments on the proposed rule and other information developed by the EPA in addressing those comments since proposal, is located in Public Docket No. A-97-14 at the following address: Air and Radiation Docket and Information Center (6102), U.S. EPA, 401 M Street, SW., Washington, DC 20460. The docket is located at the above address in Room M-1500, Waterside Mall (ground floor), and may be inspected from 8 a.m. to 5:30 p.m., Monday through Friday, excluding legal holidays. Materials related to this rulemaking are available upon request from the Air and Radiation Docket and Information Center by calling (202) 260-7548 or 7549. The FAX number for the Center is (202) 260-4400. A reasonable fee may be charged for copying docket materials.

FOR FURTHER INFORMATION CONTACT: For information concerning applicability and rule determinations, contact your State or local regulatory agency representative or the appropriate EPA Regional Office representative. For information concerning analyses performed in developing this rule, contact Mr. Anthony Wayne, Policy, Planning and Standards Group, Emission Standards Division (C439-04), U.S. EPA, Research Triangle Park, North Carolina, 27711; telephone number (919) 541-5439; fax number (919) 541-0942; electronic mail address: wayne.tony@epa.gov.

SUPPLEMENTARY INFORMATION: Judicial Review. Under CAA section 307(b), judicial review of the final NESHAP is available only by filing a petition for review in the U.S. Court of Appeals for the District of Columbia Circuit on or before September 9, 2002. Only those objections to the NESHAP which were raised with reasonable specificity during the period for public comment may be raised during judicial review. Under section 307(b)(2)of the CAA, the requirements established by today's final action may not be challenged separately in any civil or criminal proceeding we bring to enforce these requirements.

Regulated Entities. Categories and entities potentially regulated by this action include:

Category | SIC ᵃ | NAICS ᵇ | Regulated entities
Industry | 3011 7534 2296 | 326211 326212 314992 | Rubber tire manufacturing facilities.
ᵃ Standard Industrial Classification.
ᵇ North American Information Classification System.

This list is not intended to be exhaustive, but rather provides a guide for readers regarding entities likely to be regulated by this action. To determine whether your facility is regulated by this action, you should examine the applicability criteria in § 63.5981 of the rule. If you have questions regarding the applicability of this action to a particular entity, consult your State or local agency (or EPA Regional Office) described in the preceding FOR FURTHER INFORMATION CONTACT section.

Worldwide Web (WWW). In addition to being available in the docket, an electronic copy of this final rule will also be available on the WWW through the Technology Transfer Network (TTN). Following signature, a copy of the rule will be posted on the TTN's policy and guidance page for newly proposed or promulgated rules http://www.epa.gov/ttn/oarpg.

Outline. The information in this preamble is organized as follows:

I. Background

A. What Is the Source of Authority for Development of NESHAP?

B. What Criteria Are Used In the Development of NESHAP?

C. How Did the Public Participate in Developing the Rule?

II. Summary of the Final Rule

III. Significant Comments and Changes Since Proposal

A. What Sources Are Subject to the Rule?

B. How Did We Determine MACT?

C. Can EPA Provide a Universal Certification Compliance Alternative?

D. What Role Should EPA Method 311 Play in Compliance Determinations?

E. How Should the Tire Cord Compliance Requirements Address Potential Mixing Reactions?

F. What Data Requirements Should Sources Using Continuous Parameter Monitoring Systems Meet?

G. Is Compliance Based on Daily Recordkeeping Needed?

H. Has EPA Properly Considered the Cost Impacts of the Rule?

I. What Other Changes Has EPA Made for the Final Rule?

J. What Are the Environmental, Cost, and Economic Impacts of the Final Rule?

IV. Administrative Requirements

A. Executive Order 12866—Regulatory Planning and Review

B. Executive Order 13045 -Protection of Children from Environmental Health Risks and Safety Risks

C. Executive Order 13175—Consultation and Coordination with Indian Tribal Governments

D. Executive Order 13132—Federalism

E. Executive Order 13211—Actions Concerning Regulations That Significantly Affect Energy Supply, Distribution, or Use

F. Unfunded Mandates Reform Act of 1995

G. Regulatory Flexibility Act (RFA), as Amended by the Small Business Regulatory Enforcement Fairness Act of 1996 (SBREFA), 5 U.S.C. 601 et seq.

H. Paperwork Reduction Act

I. National Technology Transfer and Advancement Act of 1995

J. Congressional Review Act

I. Background

A. What Is the Source of Authority for Development of NESHAP?

Section 112 of the CAA requires us to list categories and subcategories of major sources and area sources of HAP and to establish NESHAP for the listed source categories and subcategories. The category of major sources covered by today's final rule was listed on July 16, 1992 (57 FR 31576). Major source means any stationary source or group of stationary sources located within a contiguous area and under common control that emits or has the potential to emit, considering controls, 10 tons per year (tons/yr) or more of any one HAP or 25 tons/yr or more of any combination of HAP.

B. What Criteria Are Used in the Development of NESHAP?

Section 112 of the CAA requires that we establish NESHAP for the control of HAP from both new and existing major sources. The CAA requires the NESHAP to reflect the maximum degree of reduction in emissions of HAP that is achievable. This level of control is commonly referred to as the maximum achievable control technology (MACT).

The MACT floor is the minimum control level allowed for NESHAP and is defined under section 112(d)(3) of the CAA. In essence, the MACT floor ensures that the standard is set at a level that assures that all major sources achieve the level of control at least as stringent as that already achieved by the better-controlled and lower-emitting sources in each source category or subcategory. For new sources, the MACT floor cannot be less stringent that the emission control that is achieved in practice by the best-controlled similar source. The MACT standards for existing sources can be less stringent than standards for new sources, but they cannot be less stringent than the average emission limitation achieved by the best-performing 12 percent of existing sources in the category or subcategory (or the best-performing 5 sources for categories or subcategories with fewer than 30 sources).

In developing MACT, we also consider control options that are more stringent than the floor. We may establish standards more stringent than the floor based on consideration of the cost of achieving the emission reductions, any health and environmental impacts, and energy requirements.

C. How Did the Public Participate in Developing the Rule?

Prior to proposal, we met with industry representatives and State regulatory authorities several times to discuss the data and information used to develop the proposed standards. In addition, these and other potential stakeholders, including equipment vendors and environmental groups, had opportunity to comment on the proposed standards.

The proposed rule was published in the Federal Register on October 18, 2000 (65 FR 62414). The preamble to the proposed rule discussed the availability of technical support documents, which described in detail the information gathered during the standards development process. Public comments were solicited at proposal.

We received 19 public comment letters on the proposed rule. The commenters represent the following affiliations: Rubber tire manufacturers (4 companies), industrial trade associations (5), and one State and local agency association. In the post-proposal period, we talked with commenters and other stakeholders to clarify comments and to assist in our analysis of the comments. Records of these contacts are found in docket A-97-14. All of the comments have been carefully considered, and, where appropriate, changes have been made for the final rule.

II. Summary of Final Rule

The rule will apply to existing, new and reconstructed rubber tire manufacturing facilities that are major sources of HAP emissions standing alone or are major sources due to collocation with other facilities that emit HAP. We have subcategorized the rubber tire manufacturing source category into the following four subcategories of affected sources:

• Rubber processing

• Tire production

• Tire cord production

• Puncture sealant application.

Table 1 summarizes the emission limit options for the tire production, tire cord production, and puncture sealant application affected sources. There are no emission limits or other requirements associated with rubber processing affected sources.

Table 1.—Emission Limit Options for Affected Sources
Affected source | Pollutant | Limitaᵃ
Existing, new or reconstructed tire production facility—Option 1 | Selected organic HAP (See Table 16 of final rule) | Emissions must not exceed 1,000 grams per megagram (2 pounds per ton) of the total cements and solvents used.
| All other organic HAP | Emissions must not exceed 10,000 grams per megagram (20 pounds per ton) of the total cements and solvents used.
Existing, new or reconstructed tire production facility—Option 2 | All organic HAP | Emissions must not exceed 0.024 grams per megagram (0.00005 pounds per ton) of rubber used.
Existing tire cord production facility—Option 1 | All organic HAP | Emissions must not exceed 280 grams per megagram (0.56 pounds per ton) of fabric processed.
New or reconstructed tire cord production facility—Option 1 | All organic HAP | Emissions must not exceed 220 grams per megagram (0.43 pounds per ton) of fabric processed.
Existing, new or reconstructed tire cord production facility—Option 2 | Selected organic HAP (See Table 16 of final rule) | Emissions must not exceed 1,000 grams HAP per megagram (2 pounds per ton) of total coatings used.
| All other organic HAP | Emissions must not exceed 10,000 grams HAP per megagram (20 pounds per ton) of total coatings used.
New or reconstructed puncture sealant application booth—Option 1 | All organic HAP (measured as volatile organic compounds (VOC)) | Reduce spray booth emissions by at least 95 percent.
Existing puncture sealant application booth—Option 1 | All organic HAP (measured as VOC) | Reduce spray booth emissions by at least 86 percent.
Existing, new or reconstructed puncture sealant application booth—Option 2 | Selected organic HAP (See Table 16 of final rule) | Emissions must not exceed 1,000 grams HAP per megagram (2 pounds per ton) of total puncture sealants used.
| All other organic HAP | Emissions must not exceed 10,000 grams HAP per megagram (20 pounds per ton) of total puncture sealants used.
ᵃ Emission limits are expressed as monthly average emission limits except for: (1) Tire production affected sources that comply by demonstrating that the cements and solvents that they use comply with the emission limit for every purchase; and (2) puncture sealant application affected sources that comply by meeting the overall control efficiency option which requires such sources to meet the emission reduction limit on a 3-hour average.

The final rule also establishes operating limits for puncture sealant application affected sources that are complying with the overall control efficiency standards (i.e., 86 percent emission reduction or 95 percent emission reduction). The operating limits are established on a source-specific basis. Once established, sources must maintain specified control device and capture system operating parameter(s) within the range(s) established during the performance test and according to the source's monitoring plan.

The final rule requires demonstrations of initial and ongoing compliance with the emission limitations. The specific requirements vary according to the affected source and the compliance alternative selected by that source. The final rule also establishes compliance dates, as well as provisions for performance testing, monitoring, recordkeeping, and reporting.

III. Significant Comments and Changes Since Proposal

This section includes discussion of significant comments on the proposed rule, particularly where we have made changes for the final rule to address those comments. For a complete summary of all the comments received on the proposed rule and our responses to them, refer to the “Technical Document for Promulgation of Standards, National Emission Standards for Hazardous Air Pollutants: Rubber Tire Manufacturing, Comment and Response Summary” (hereafter called the “response to comments document”) in docket A-97-14. The docket also contains the actual comment letters and supporting documentation developed for the final rule.

A. What Sources Are Subject to the Rule?

We received several comments raising questions on the applicability of the rule to specific sources at rubber tire manufacturing facilities. We have clarified the applicability provisions in the final rule. This section describes in more detail how the rule applies to various operations at rubber tire manufacturing facilities.

1. Tire Bladders

The final rule applies to manufacturers of rubber tires and components integral to rubber tires, as well as tire cord producers and puncture sealant operations. One commenter suggested that EPA clarify that tire bladders used in the manufacturing process are not “components integral to rubber tires.” We agree that tire bladders are not integral components in a tire because they are used in an intermediate production process and are not found in the final product. Their manufacture does not involve the use of cements or solvents. Therefore, the final rule reflects this exclusion in § 63.5981.

2. Tire Retread Operations

Based on public comments, we reconsidered whether to include tire retread manufacturing operations in the source category definition. At the time of proposal, no major tire retread manufacturing sources were identified that would be subject to the rubber tire manufacturing rule. However, to the extent that these facilities use cements and solvents in producing retread tires, and they are a major source (standing alone or due to collocation), they would have been subject to the proposed version of the rule because of similarities in the solvents, cements, and adhesives used and the process used to build tires. In evaluating comments on this topic, we reconsidered information regarding the potential for HAP emissions from retreading operations, the applicability of the proposed rule, and the appropriateness of the tire production MACT floor for retreading operations.

In both “new” tire production and retread tire production, tire building stations are used to create the pre-cured or pre-vulcanized tire. Several tire components can be combined for a virgin tire versus only two to three components for a retread tire. In the latter case, the carcass has been constructed eliminating those component steps in tire building for the retreader. The vulcanizing and curing of both the retread and the “green” tire are identical in their use of tire molds, the time for curing, the temperatures, and the pressures. These parameters are set in order to meet the tire safety and longevity specifications of the industry.

The HAP emissions associated with sidewall cementing, tread end cementing, tire building and retread tire building all use similar cement and solvent formulations. Specifically, the main component of the cements and solvents used by both new and retread manufacturers are hexane and toluene. The primary purpose of these cements and solvents is as a temporary aid to ensure that the rubber compound surface remains “tacky” during tire building. However, several tire manufacturers and retreaders have reformulated or eliminated the use of these toxic compounds in their operations, while presumably still achieving the desired performance characteristics.

Our review and evaluation of the tire building methods, tire building machinery, solvent and cement usage and application, and vulcanizing and curing processes for both new and retread tire operations has not indicated significant differences in production techniques or in the types of tires being made. Our original conclusion to include retreading in the tire production subcategory, therefore, has not changed under this subsequent analysis.

Evaluation of the tire production MACT floor database identified retreading operations at sources that also manufactured new tires. The HAP emissions associated with these facilities were minor in comparison to the overall facility emissions, and compliance with the MACT standards is anticipated using the facility-wide standards that have been established for the industry. Therefore, emissions associated with the retreading operations at facilities included in the Rubber Manufacturers Association's (RMA's) database are included in the overall emissions reported from the RMA and the individual companies.

In addition, EPA examined the 1996 National Toxics Inventory (NTI) data, which revealed only three potential stand-alone major source facilities for retreading in the U.S. The primary pollutants reported were hexane and toluene. The 1996 NTI reported that HAP emissions from these sources ranged from 8 to 16 tons per year. Subsequent contacts with the permitting agencies for these sources revealed that the facilities have significantly reduced or eliminated HAP emissions. This analysis demonstrates the ability of retread facilities to substantially reduce or eliminate their HAP emissions.

In conclusion, we believe that tread is an integral component of tires, and retread manufacturers should be subject to the emission standards for tire producers to the extent that they use cements and solvents.

3. Fabric Coating Operations

The final rule clarifies the potential overlapping applicability of MACT standards for tire manufacturers who own and operate cord-treating facilities that produce tire cord as well as other fabric products, such as belts and hoses. For example, currently we are developing the fabric printing, coating, and dyeing NESHAP, which will potentially address the same cord coating operations as today's rubber tire manufacturing rule. In order to minimize potentially redundant requirements at these types of facilities, we have included in the final rule an exemption for coating activities where the primary product is a Web substrate other than tire cord, and the activities are regulated by another NESHAP. In other words, where tire cord is the primary product, the rubber tire manufacturing NESHAP would apply. Where it is not, the other NESHAP would apply. Any facility with potential overlapping applicability would have to determine which NESHAP apply to the facility by the compliance date of the first applicable NESHAP.

4. Research and Development Operations

We have also determined that research and development (R&D) operations should not be subject to the rubber tire manufacturing rule. At proposal, we included them in the definition of HAP emission sources. However, we now believe that excluding them is more consistent with our statements in an advanced notice of proposed rulemaking in which we suggested that R&D operations should be listed as a separate source category (62 FR 25877) because including R&D operations in a rule governing manufacturing operations would be problematic. We are not aware of any stand-alone major R&D facilities. In fact, R&D is focused on development of rubber compounds, which should involve minimal solvent use. For these reasons and because R&D operations were not necessarily addressed in the MACT floor determination, the final rule exempts R&D facilities as defined in section 112(c)(7) of the CAA. An R&D facility is one “whose primary purpose is to conduct research and development into new processes and products, where such source is operated under the close supervision of technically trained personnel and is not engaged in the manufacture of products for commercial sale in commerce, except in a de minimis manner.” See CAA section 112(c)(7).

B. How Did We Determine MACT?

1. Rubber Processing MACT

Commenters said we did not provide data to support our conclusion that add-on control devices for rubber processing emissions are feasible but unreasonably expensive. According to the commenters, we should have considered the use of high-volume low-concentration (HVLC) technologies, which are available, proven, and cost-effective.

At proposal, we considered beyond-the-floor control options in establishing MACT for the rubber processing source category based on regenerative incineration. We concluded that the costs of these controls, more than $200,000 per ton of HAP controlled, were too high to require them as the basis of the standard. However, in considering public comments on the proposed rule, we reviewed information provided by a commenter to further evaluate the applicability of a specific HVLC technology to rubber processing operations. The technology is a hybrid system that incorporates a rotary concentrator with conventional oxidation (emission reduction) technology. The concentrator provides a mechanism to concentrate low organic concentration gas streams in order to make destruction or removal, for example, with a following oxidizer, a more cost-effective control technique.

As described in the response to comments document, our analysis showed that using the HVLC technology at a model facility would cost approximately $40,000 dollars per ton of emission reduction. While this is an improvement relative to the original cost impact, it is still too high to be considered a beyond-the-floor technology for existing and new facilities. Therefore, we have not revised the original MACT determination for this subcategory.

2. Tire Production MACT

Several commenters said the two emission limit options proposed for the tire production subcategory are not equivalent, because Option 2 (production-based option) is more stringent than Option 1 (HAP-constituent option). They said these options should be equivalent because, otherwise, Option 2 represents a beyond-the-floor requirement. At a minimum, they thought that Option 2 should be based on the average emissions of the five best-performing sources.

We disagree with these comments. As described in the proposal preamble, Option 1 represents the MACT floor and MACT. We developed Option 2 to represent a second form of the emission limit expressed in mass of HAP emitted per mass of rubber processed. Option 2 must be at least as stringent as Option 1, but is not required to be equivalent. Because the use of Option 2 is not required, it is not a beyond-the-floor requirement. Instead, it provides sources flexibility in how they meet the emission limit.

Commenters also said the proposal failed to set an emission limit with a meaningful control technology option, because the allowable emission levels in Options 1 and 2 effectively rule out control devices as a significant compliance option due to achievable capture efficiency rates in the tire production industry. This is important, commenters said, because reformulation is not an option in all cases due to the need for extensive equipment modification, modernization, and facility reconfiguration as well as the high costs associated with such changes (likely exceeding $50 to $100 million per plant according to commenters).

A central fact in our response to these issues is that Option 1 is based on the MACT floor determination for tire production affected sources. Based on data provided by the RMA, we determined that emissions from these sources are controlled primarily through pollution prevention measures such as reformulation or other changes in process operations, which reduce or eliminate HAP. In fact, of the 41 reported existing tire production facilities, 11 reported no potential for HAP emissions from cement or solvent use above the Superfund Amendments and Reauthorization Act (SARA) de minimis reporting threshold limitations for HAP-containing compounds. No additional information in support of subcategorizing the source category was provided by the industry. Because we did not identify any basis for further subcategorizing tire production sources, this level of performance represents MACT for all tire production affected sources.

Despite a MACT floor determination based on pollution prevention, the proposed emission limits were crafted to allow the use of add-on control technologies as a compliance option because we recognized that some existing facilities currently use them to control a portion of their emissions. We also wanted to allow all sources the flexibility to use add-on controls, as long as the MACT floor requirements were met, if they found them more attractive than pollution prevention measures in reducing emissions from certain operations. We believe the result is a meaningful control technology option. While most facilities would have to achieve some increased level of pollution prevention to comply with the final rule, they would have the option to use add-on controls on any of the emission sources at the facility to provide additional needed reductions. Assuming sources used add-on controls on all of the available emission sources, the additional pollution prevention reductions to meet the emission limits would range from 0 to 54 percent, with 27 percent as the average reduction. Given the tremendous strides in pollution prevention already achieved by the industry, we believe the NESHAP limits are achievable and that the control technology option is viable.

3. Puncture Sealant MACT

Commenters said we overreached in establishing a standard for new sources that is more stringent than the standard for existing sources. The new source standard is on a single facility, which is operating a carbon absorber with a removal efficiency of 86 percent. According to commenters, we failed to conduct a beyond-the-floor analysis that includes the cost and technical feasibility to support our determination.

We determined the new source MACT floor by looking at similar sources in other industries and found that their carbon absorbers are achieving better performance than that at the one existing puncture sealant source. Industries that emit VOC have extensive experience in using pollution control technologies to control the gaseous pollutants. Carbon adsorption can typically achieve greater than 90 percent efficiencies with inlet gaseous pollutant concentrations greater than a few hundred parts per million by volume (ppmv). At concentrations greater than 1000 ppmv, efficiencies can exceed 95 percent. The existing puncture sealant facility shows an inlet stream concentration of at least 1,400 ppmv. Use of combustion technologies, even at low pollutant concentrations (less than 100 ppmv), can generally achieve 90 to 95 percent destruction efficiency. At higher concentrations, destruction efficiencies of 95 to 98 percent are achieved. Therefore, we believe that control devices at new facilities should be able to should be able to achieve at least 95 percent efficiency.

Because commenters raised cost concerns, we compared the cost of installing an 86-percent efficient control device to the cost of a 95-percent efficient control device at a new facility. Because the driving factor in the cost analysis is the airflow rate of the inlet stream, it actually costs less to install a 95-percent efficient carbon adsorber than an 86-percent efficient one. This is because both units would have the same total annual cost in the absence of recovery credits, but the more efficient device would achieve greater product recovery, which reduces the annual operating cost. Therefore, even if the standard for new sources were considered a beyond-the-floor standard, the MACT determination would be the same.

C. Can EPA Provide a Universal Certification Compliance Alternative?

Commenters asked us to develop an alternative standard (and associated compliance procedures) for tire cord production and/or puncture sealant operations that would be analogous to the “HAP constituent option” (Option 1) for tire production sources. They said we should allow tire cord and puncture sealant facilities to certify annually that formulations used in such operations contain less than 0.1 percent of those HAP specified in Table 16 of the proposed rule and less than 1 percent of all other HAP, and that this change would encourage pollution prevention.

We agree that providing a similar HAP-constituent option for tire cord producers and puncture sealant operations would encourage pollution prevention. Demonstrating compliance with a HAP-constituent option would require additional emission reductions beyond those required by the MACT, but since its use would be optional, it would not constitute a beyond-the-floor requirement. However, we believe that its use should be limited to a monthly compliance alternative, reserving the annual alternative to the purchase of cements and solvents. Most, if not all, tire cord manufacturers and puncture sealant application facilities mix their coatings and puncture sealants on-site, which would require the use of the monthly compliance demonstration. We have written the final rule to add these compliance options.

D. What Role Should EPA Method 311 Play in Compliance Determinations?

Commenters requested several clarifications regarding the role that EPA Method 311 (found in Appendix A of 40 CFR part 63) (Analysis of Hazardous Air Pollutant Compounds in Paints and Coatings by Direct Injection Into a Gas Chromatograph) should play in ongoing compliance determinations. For example, is an individual Method 311 test required to verify the HAP content for every batch of solvent or cement? Must the compliance demonstration determine the precise HAP content of the tested material, or can the de minimis reporting threshold discussed in the proposed rule (0.1 percent for certain listed HAP and 1.0 percent for other HAP) suffice? Can the tire manufacturing facility owner or operator rely on information provided by suppliers regarding the HAP content of materials? Can formulation data (material safety data sheets (MSDS) and certificates of compliance) be used in lieu of Method 311 testing? Commenters stated that use of the MSDS and other data to screen products for HAP content will eliminate testing of hundreds of non-HAP containing materials.

We reviewed the use of Method 311 in other recent coating standards we have proposed or promulgated. In order to be consistent with these standards and minimize the need for individual facilities to apply for approval of alternative methods, we have added flexibility to the process of certifying HAP contents of materials used in the tire manufacturing industry. However, the reference test method for measuring the HAP content of tire manufacturing cements, solvents, coatings, and puncture sealants will be EPA Method 311. This is an established method that is appropriate for measuring the types of HAP used in these materials.

The final rule, therefore, does not require a Method 311 test for HAP content, nor does it require you to test every shipment of materials you receive. You will be responsible for verifying, by any reasonable means such as periodic testing or manufacturer's certification, the HAP content (at least above the de minimis thresholds) of materials used at the facility. We may require you to conduct a test at any time using EPA Method 311 (or any approved alternative method) to confirm the HAP content reported in the compliance reports. If there is any inconsistency between the results of the EPA Method 311 test and any other means of determining HAP content, the Method 311 results will govern.

E. How Should the Tire Cord Compliance Requirements Address Potential Mixing Reactions?

Commenters raised the issue of how to treat emissions from tire cord mixing operations in compliance determinations when reactions during mixing may affect emissions. For example, at what point in the mixing process should Method 311 samples (or other analytical means) be taken? If the analysis is based on the coating after it is mixed, reacted, and aged, the results will not account for the HAP emitted from or converted by the mixing process. However, if the analysis is based on coating collected from the mix tank after the addition of all the chemicals, but prior to subsequent processing, the analysis could overestimate the overall HAP emissions from the affected source. This is because tire cord coatings (“dip formulations”) commonly react during the mixing and storage operations. During these reactions, a HAP such as formaldehyde cross-links the polymers contained in the dip formulation. After this cross-linking reaction occurs, the chemical is unavailable to be released as an air emission during subsequent processing steps. For formaldehyde, the chemical conversion rate typically equals or exceeds 99 percent.

At proposal, we assumed that the amount of HAP used in the tire cord production process would equal the amount of HAP emitted. We assumed you would document your material balances using records of the HAP contents of raw materials delivered to the mixing process. Alternatively, you could sample the coating mixture to verify HAP content. However, based on comments, it appears that the issue of reactive coatings is significant for tire cord production. We are concerned, however, that the commenters' solution to only address post-mixing HAP would ignore potential fugitive emission losses from mixers.

In the final rule, we have assumed that you will base your material balance on the assumption that 100 percent of the HAP added to a coating mixture is emitted. However, you will be allowed to account for HAP “losses” resulting from chemical reactions, e.g., curing or post-application reactions. You can calculate these losses based on the conversion rates of the individual coating formulations, chemistry demonstrations, or other demonstrations that are verifiable to the approving agency. You may than use the revised value in your compliance demonstration. We have written the final rule to add these provisions.

F. What Data Requirements Should Sources Using Continuous Parameter Monitoring Systems Meet?

1. Deviations

Commenters noted that proposed § 63.5990, which requires facilities to be in compliance with the MACT standards at all times regardless of whether a source is using control equipment to comply, fails to recognize that several factors make it almost inevitable that the source's emissions will exceed the standards at times. Instead, sources should be given a chance to quickly correct a deviation from their operating parameter limits before a violation is registered. This encourages quick action and is appropriate because emissions may be underneath the regulatory limit even though the parameter limit is exceeded.

The monitoring provisions in the final rule are structured to require a source to establish an individual operating limit (or operating parameter value) based on a site-specific performance test. Once established, the source should have the ability to operate as far as desired and/or necessary on the compliance side of the operating parameter.

The length of the averaging time for the associated emission limit is another variable that affects the likelihood of deviations. For example, cases in which the monitoring data are used to demonstrate instantaneous compliance are more likely to create the exceedances suggested by the commenters. This is not the case in the final rule. Puncture sealant affected sources meeting the overall control efficiency compliance option are subject to operating limits based on a 3-hour averaging period. Tire producers, tire cord producers, and puncture sealant applicators choosing to comply with one of the monthly average compliance options have a month in which to ensure that deviations from control device monitoring parameters do not affect their overall compliance status. In summary, we believe the final rule is based on parameters and averaging times that allow a conscientious operator to remain in compliance with the standards. Therefore, we have not made the changes suggested by commenters.

2. Startups, Shutdowns, and Malfunctions

Commenters were concerned that Table 17 to proposed subpart XXXX indicates that the 40 CFR part 63, subpart A, General Provisions requirements regarding startups, shutdowns, and malfunctions (§§ 63.6(e)(3) and (f)(1)) do not apply to sources that choose to use control devices to comply with the standards. One commenter cited precedents regarding the need for “achievable” standards and argued that the final rule should be written to indicate that these sections do apply to facilities complying through the use of control devices.

We agree that puncture sealant affected sources that are subject to operating limits should be allowed to use the startup, shutdown, and malfunction provisions, and have corrected this oversight for the final rule. We separately considered whether to extend these provisions to tire production, tire cord production, and puncture sealant affected sources complying with the monthly average compliance options because compliance with the monitored parameter is only a trigger that determines whether the source can use the established emission reductions of the capture and control system in the compliance demonstration. Because the overall compliance demonstration is based on a month's worth of data, we considered whether the startup, shutdown, and malfunction provisions were needed to ensure an achievable standard. We determined that for sources relying heavily on the use of control equipment to meet the overall emission limit, the inability to exclude periods of startups, shutdowns, and malfunctions from the compliance demonstration could increase their risk of failing to comply with the emission limit. Therefore, we have written the final rule to add the startup, shutdown, and malfunction provisions for sources complying with the standards through control devices.

3. Minimum Data Collection Requirements

Commenters said the proposal fails to allow for the loss of even minimal amounts of test or monitoring data when sources are complying by using add-on control devices. They suggested adding provisions similar to those found in the municipal waste combuster MACT standards issued under section 129 of the CAA.

We have therefore written the final rule to provide information on these minimum data requirements. We agree that the proposed rule, by being silent on minimum data requirements, could have caused confusion for compliance demonstrations. The tradeoff to consider in adding these requirements is that the monitoring system should be optimized to limit occurrences when data collection is jeopardized because of system faults and failures. Therefore, we have clarified in the final rule the establishment of reasonable minimum data collection requirements, implemented through the use of a site-specific monitoring plan designed to optimize system performance.

The final rule requires you, for each operating parameter you monitor, to install, operate, and maintain each continuous parameter monitoring system (CPMS) according to the following requirements:

• Operate CPMS at all times the process is operating;

• Collect data from at least four equally spaced periods each hour;

• For at least 75 percent of the hours in an operating day, have valid data (as defined in the site-specific monitoring plan) for at least four equally spaced periods each hour;

• For each hour of valid data from at least four equally spaced periods, calculate the hourly average value using all valid data;

• Calculate the daily average using all of the hourly averages; and

• Record the results for each inspection, calibration, and validation check as specified in the site-specific monitoring plan.

For each monitoring system required, you must develop and submit for approval a site-specific monitoring plan that addresses the following requirements:

• Installation of the continuous monitoring system (CMS) sampling probe or other interface at a measurement location relative to each affected process unit such that the measurement is representative of control of the exhaust emissions (e.g., on or downstream of the last control device);

• Performance and equipment specifications for the sample interface, the pollutant concentration or parametric signal analyzer, and the data collection and reduction system; and

• Performance evaluation procedures and acceptance criteria (e.g., calibrations).

The plan must also address the following ongoing procedures:

• Ongoing operation and maintenance procedures in accordance with the general requirements of 40 CFR 63.8(c)(1), (3), (4)(ii), (7), and (8), and 63.5990;

• Ongoing data quality assurance procedures in accordance with the general requirements of 40 CFR 63.8(d); and

• Ongoing recordkeeping and reporting procedures in accordance the general requirements of 40 CFR 63.10(c) and (e)(1) and (2)(i).

G. Is Compliance Based on Daily Recordkeeping Needed?

Commenters recommended specifying that monthly average compliance demonstrations should be based on monthly inventory and usage records, instead of daily ones, for several reasons:

• The proposal to require daily records of many parameters (control devices are the exception) is inconsistent with the requirement for a monthly average, is very burdensome, and would not serve any environmental purpose.

• Use of monthly data would eliminate the need for proposed equation 3 of § 63.5997(b)(3) of proposed subpart XXXX.

• Monthly records are consistent with other MACT standards, and it would be arbitrary and capricious to single out the tire manufacturing standards for daily recordkeeping when it is unnecessary to show compliance with a monthly averaging period, and other similar standards require only monthly recordkeeping.

• Monitoring the flow of cements and solvents through the plant's central dispensing area on a monthly basis is less burdensome than on a daily basis.

• The accuracy of a monthly system is significantly better than individual measurements of hundreds of containers on a daily basis.

We believe the commenters have overstated the need for complex recordkeeping systems to implement the rule as proposed. For example, we believe sources could monitor daily flow of cements and solvents through one or two central locations instead of at the point of use. However, upon consideration, we agree that a monthly system of cement, solvent, and coating use is sufficient to demonstrate compliance with the emission limitations. Therefore, we have written the final rule to implement a monthly system. This change simplifies the compliance equations and should reduce recordkeeping burden without compromising compliance assurance.

H. Has EPA Properly Considered the Cost Impacts of the Rule?

Commenters felt we underestimated the cost impacts of the proposed rule by failing to incorporate significant costs associated with creating systems to track daily material usage. They suggested that monthly recordkeeping would be more economical, could be more easily maintained, and would still demonstrate compliance with the standards.

We believe that the commenters misinterpreted the proposed recordkeeping requirements to require tracking cement, solvent, and coating use at every single step in the process. Instead, we believe facilities should be able to monitor a limited number of central locations (e.g., amount of coating leaving mix area, amount of solvent distributed from storage), and thereby avoid significant costs. However, as described above, we have determined that monthly recordkeeping will be sufficient to demonstrate compliance with the emission limitations and have written the final rule to allow it.

Commenters also were concerned that we presented the proposed rule as a nonsignificant regulatory action, when it may force technology developments that are not incorporated into the analysis presented. Commenters said reformulation is not an option in every case, and the lack of a meaningful control technology option will force significant technology upgrades to comply with the standards. According to one commenter, this type of modernization costs $50 to $100 million per plant, and these types of costs are not reflected in the impacts analysis of the proposed rule.

As earlier described, we believe the rule contains a viable emission control technology option. In addition to the cost estimate prepared for the final rule, we also conducted a theoretical cost analysis using more conservative (i.e., high-end) assumptions regarding the level of reformulation and the probable capture efficiencies. That analysis maximized the number of sources installing add-on control devices, reduced add-on control capture efficiencies, and determined solvent reformulation costs on a facility-specific basis. (See the response to comments document for more details.) Based on these assumptions, total annual control costs to all tire producers combined could be as high as $35 million. Even considering impacts based on these more conservative (higher end of range) assumptions, the final rule will not trigger the $100 million criterion used by the Office of Management and Budget (OMB), let alone approach the estimate provided by one commenter of $50 to $100 million per plant to meet the emission limits.

I. What Other Changes Has EPA Made for the Final Rule?

We have made several other changes for the final rule. These changes include the following:

• Changes to the compliance equations to clarify them, address the addition of new compliance options, make them consistent with monthly recordkeeping, and fix errors.

• Revisions or additions to clarify applicability in definitions (cements and solvents, fabric processed, tire cord, etc.).

• Other minor changes to correct editorial and minor technical errors in the proposal package.

J. What Are the Environmental, Cost, and Economic Impacts of the Final Rule?

The final rule will eliminate approximately 983 megagrams per year (Mg/yr) (1,084 tons/yr) (52 percent) of the baseline annual HAP emissions from this industry. For the tire production source subcategory, we estimate that the final rule will reduce HAP emissions by approximately 949 Mg/yr (1,047 tons/yr). For the tire cord production source subcategory, we estimate that the final rule will reduce HAP emissions by approximately 34 Mg/yr (37 tons/yr). We also estimate that the final rule will reduce emissions of VOC by the same amount.

For the one existing puncture sealant application affected source, we are not requiring different emissions control than what is currently done. Therefore, the final rule will not reduce HAP or other emissions from baseline emissions levels at this facility.

The final rule encourages the adoption of pollution prevention measures. As a result, we believe that most manufacturers will adopt these measures and expect minimal, if any, increases in energy consumption, and minimal reductions in water pollution and solid waste.

Actual compliance costs will depend on each source's existing cement, solvent, and coating formulations and control equipment, and the modifications made to comply with the final rule. Table 2 shows the total annual costs for affected sources to comply with the final rule. These costs include the estimated costs of reformulating cements, solvents, and coatings or installation of add-on control devices, as well as monitoring, reporting, and recordkeeping costs.

Table 2.—Total Annual Costs of the Rubber Tire Manufacturing Rule for Tire Production, Tire Cord Production, and Puncture Sealant Application
Annual costs | Tire production/puncture sealant application ᵃ | Tire cord |
Control | $21,359,000 | $2,477,000 |
Monitoring | 1,161,000 | 193,000 |
Recordkeeping and reporting average | 597,000 | 105,000 |
Total nationwide costs | 23,117,000 | 2,775,000 | =$25,892,000
ᵃ Puncture sealant monitoring and reporting recordkeeping costs are included in the tire production costs.

The economic impact analysis (EIA) provides an estimate of the anticipated regulatory impacts of the rule for rubber tire manufacturing. The information collected for this rule from rubber tire manufacturers indicates that there are 14 companies potentially affected by the rule. States with the largest concentration of facilities are Alabama, Illinois, North Carolina, South Carolina, and Ohio. None of the facilities manufacturing rubber tires are owned by companies that are classified as small businesses.

In general, the economic impacts of the rule are expected to be minimal. A market price increase of less than 1 percent, or $0.03 per tire, is projected. Domestic producer pre-tax earnings are projected to decrease by $14 million, or 1.2 percent. The EIA estimates that domestic tire output will decline by 154,000 tires (0.05 percent), while imports will increase by 24,000 tires (0.05 percent), resulting in a net decline of 130,000 tires, or 0.04 percent.

The value of a regulatory action is traditionally measured by the change in economic welfare that it generates. The final rule's welfare impacts, or the social costs required to achieve environmental improvements, will extend to tire consumers and producers alike. The social costs for existing sources are projected to be approximately $24 million.

IV. Administrative Requirements

A. Executive Order 12866—Regulatory Planning and Review

Under Executive Order 12866 (58 FR 51735, October 4, 1993), the Agency must determine whether the regulatory action is “significant” and therefore subject to OMB review and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

It has been determined that this rule is not a “significant regulatory action” under the terms of Executive Order 12866 and is therefore not subject to OMB review.

B. Executive Order 13045—Protection of Children From Environmental Health Risks and Safety Risks

Executive Order 13045, “Protection of Children from Environmental Health Risks and Safety Risks” (62 FR 19885, April 23, 1997) applies to any rule that (1) is determined to be “economically significant” as defined under Executive Order 12866, and (2) concerns an environmental health or safety risk that EPA has reason to believe may have a disproportionate effect on children. If the regulatory action meets both criteria, the Agency must evaluate the environmental health or safety effects of the planned rule on children and explain why the planned rule is preferable to other potentially effective and reasonably feasible alternatives that we considered.

This final rule is not subject to Executive Order 13045 because it is not an economically significant regulatory action as defined by Executive Order 12866. In addition, EPA interprets Executive Order 13045 as applying only to those regulatory actions that are based on health and safety risks, such that the analysis required under section 5-501 of the Order has the potential to influence the regulation. This final rule is not subject to Executive Order 13045 because it is based on technology performance and not on health or safety risks.

C. Executive Order 13175—Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. This is because no tribal governments own or operate a rubber tire manufacturing facility. Thus, Executive Order 13175 does not apply to this rule.

D. Executive Order 13132—Federalism

Executive Order 13132, entitled “Federalism” (64 FR 43255, August 10, 1999), requires EPA to develop an accountable process to ensure “meaningful and timely input by State and local officials in the development of regulatory policies that have federalism implications.” “Policies that have federalism implications” are defined in the Executive Order to include regulations that have “substantial direct effects on the States, on the relationship between the national Government and the States, or on the distribution of power and responsibilities among the various levels of Government.”

This final rule does not have federalism implications. It will not have substantial direct effects on the States, on the relationship between the national Government and the States, or on the distribution of power and responsibilities among the various levels of Government, as specified in Executive Order 13132. The standards apply only to rubber tire manufacturers and do not pre-exempt States from adopting more stringent standards or otherwise regulate State or local governments. Thus, Executive Order 13132 does not apply to this final rule.

Although section 6 of Executive Order 13132 does not apply to this final rule, EPA did consult with State and local officials in developing this final rule. No concerns were raised by these officials during this consultation.

E. Executive Order 13211—Actions Concerning Regulations That Significantly Affect Energy Supply, Distribution, or Use

This rule is not subject to Executive Order 13211, “Actions Concerning Regulations That Significantly Affect Energy Supply, Distribution, or Use” (66 FR 28355, May 22, 2001) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, we generally must prepare a written statement, including cost-benefit analysis, for proposed and final rules with “Federal mandates” that may result in expenditures to State, local, and tribal governments, in the aggregate, or to the private sector, of $100 million or more in any 1 year. Before promulgating an EPA rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative with other than the least costly, most cost-effective, or least burdensome alternative if we publish with the final rule an explanation why that alternative was not adopted.

Before we establish any regulatory requirements that may significantly or uniquely affect small governments, including tribal governments, we must have developed under section 203 of the UMRA a small government agency plan. The plan must provide for notifying potentially affected small governments, enabling officials of affected small governments to have meaningful and timely input in the development of our regulatory proposals with significant Federal intergovernmental mandates, and informing, educating, and advising small governments on compliance with the regulatory requirements.

We have determined that this final rule does not contain a Federal mandate that may result in expenditures of $100 million or more for State, local, or tribal governments, in the aggregate, or the private sector in any 1 year. The maximum total annual cost of this rule for any year has been estimated to be less than $26 million. Thus, today's final rule is not subject to the requirements of sections 202 and 205 of the UMRA. In addition, we have determined that this final rule contains no regulatory requirements that might significantly or uniquely affect small governments because it contains no regulatory requirements that apply to such governments or impose obligations upon them. Therefore, this final rule is not subject to the requirements of section 203 of the UMRA.

G. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of today's final rule on small entities, small entity is defined as: (1) A small business according to the Small Business Administration (SBA) size standards by NAICS code (which ranges from 500 to 1,000 employees for the rubber tire manufacturing industry); (2) a small governmental jurisdiction that is a government of a city, county, town, school district or special district with a population of less than 50,000; and (3) a small organization that is any not-for-profit enterprise which is independently owned and operated and is not dominant in its field.

After considering the economic impacts of today's final rule on small entities, I certify that this action will not have a significant economic impact on a substantial number of small entities. This final rule will not impose any requirements on small entities. We have determined that none of the 43 facilities expected to be subject to the final rule are small entities.

H. Paperwork Reduction Act

The information collection requirements in this final rule have been submitted for approval to OMB under the requirements of the Paperwork Reduction Act, 44 U.S.C. 3501 et seq. An Information Collection Request (ICR) document has been prepared by EPA (ICR No. 1982.01), and a copy may be obtained from Ms. Sandy Farmer by mail at the U.S. Environmental Protection Agency, Office of Environmental Information, Collection Strategies Division (2822), 1200 Pennsylvania Avenue, NW., Washington, DC 20460-0001, by e-mail at farmer.sandy@epa.gov, or by calling (202) 260-2740. A copy may also be downloaded off the Internet at http://www.epa.gov/icr. The information requirements are not effective until OMB approves them.

The final information requirements are based on notifications, records, and reports required by the General Provisions (40 CFR part 63, subpart A), which are mandatory for all operators subject to national emission standards. These recordkeeping and reporting requirements are specifically authorized under section 114 of the CAA (42 U.S.C. 7414). All information submitted to the EPA pursuant to the recordkeeping and reporting requirements for which a claim of confidentiality is made will be safeguarded according to Agency policies in 40 CFR part 2, subpart, Confidentiality of Business Information.

The annual public reporting and recordkeeping burden for this collection of information (averaged over the first 3 years after the effective date of the promulgated rule) is estimated to total 12,807 labor hours per year at a total annual cost of $701,337. This estimate includes notifications, a performance test and report for sources using control devices to comply with the regulation, semiannual compliance reports, annual compliance certifications, records of cements and solvents composition, records of cements and solvents use, records of HAP use, and records of any required parameter monitoring.

The total estimated annual and capital monitoring, inspection, reporting and recordkeeping (MIRR) costs for existing and new major sources to comply with the final standards when an affected source opts to comply via the use of add-on control equipment are determined based on the estimated capital costs of equipment required for MIRR activities. For the rubber tire manufacturing industry, the total estimated installed capital costs of this equipment is $2.9 million for existing major sources and $569,558 for new major sources. Annualized capital MIRR costs for existing and new major sources to comply with the final standards through the use of add-on controls were estimated to be $1.6 million and $220,386, respectively.

The total annual estimated operating and maintenance costs (O&M) were calculated based on: (1) The estimated storage, filing, photocopying, and postage costs for the estimated total annual responses associated with the provisions of the rubber tire rule; and (2) the O&M costs for the equipment required for compliance with these standards. The total storage, filing, photocopying, and postage cost per response was $20.67, for an annual estimated average of $1,778.

Burden means the total time, effort, or financial resources expended by persons to generate, maintain, retain, or disclose or provide information to or for a Federal agency. This includes the time needed to review instructions; develop, acquire, install, and utilize technology and systems for the purpose of collecting, validating, and verifying information; process and maintain information and disclose and provide information; adjust the existing ways to comply with any previously applicable instructions and requirements; train personnel to respond to a collection of information; search existing data sources; complete and review the collection of information; and transmit or otherwise disclose the information.

An agency may not conduct or sponsor, and a person is not required to respond to, a collection of information unless it displays a currently valid OMB control number. The OMB control numbers for EPA's regulations are listed in 40 CFR part 9 and 48 CFR chapter 15. The OMB control number(s) for the information collection requirements in this rule will be listed in an amendment to 40 CFR part 9 or 48 CFR chapter 15 in a subsequent Federal Register document after OMB approves the ICR.

I. National Technology Transfer and Advancement Act of 1995

Section 12(d) of the National Technology Transfer and Advancement Act (NTTAA) of 1995, Public Law 104-113, section 12(d) 15 U.S.C. 272 note) directs us to use voluntary consensus standards (VCS) in our regulatory activities unless to do so would be inconsistent with applicable law or otherwise impractical. Voluntary consensus standards are technical standards (e.g., materials specifications, test methods, sampling procedures, business practices) developed or adopted by one or more voluntary consensus bodies. The NTTAA directs us to provide Congress, through annual reports to OMB, with explanations when we do not use available and applicable VCS.

This rulemaking involves technical standards. We are citing the following methods in this rule: EPA Methods 1, 1A, 2, 2A, 2C, 2D, 2F, 2G, 3, 3A, 3B, 4, 25, and 25A of 40 CFR part 60, appendix A; EPA Methods 204 and 204A-F of 40 CFR part 51, appendix M; and EPA Method 311 of 40 CFR part 63, appendix A. Consistent with the NTTAA, we conducted searches to identify VCS in addition to these EPA methods. No applicable VCS were identified for EPA Methods 1A, 2A, 2D, 2F, 2G, 204, 204A-F, and 311. The search and review results have been documented and are placed in the docket (A-97-14) for this rule.

Five voluntary consensus standards: ASTM D1979-97, ASTM D3432-89, ASTM D4747-87, ASTM D4827-93, and ASTM PS 9-94 are already incorporated by reference in EPA Method 311.

The search for emissions measurement procedures identified 14 other VCS. We determined that 11 of these 14 VCS identified for measuring emissions of HAP or surrogates subject to emission standards in this rule were impractical alternatives to EPA test methods for the purposes of this rule. Therefore, we do not intend to adopt these VCS. The reasons for the determinations of these 11 VCS are discussed below.

The VCS ASTM D3154-91 “Standard Method for Average Velocity in a Duct (Pitot Tube Method),” is an impractical alternative to EPA Methods 1, 2, 2C, 3, 3B, and 4 for the purposes of this rulemaking because it lacks in quality control and quality assurance requirements. Specifically, ASTM D3154-91 (1995) does not include the following: (1) Proof that openings of standard pitot tubes have not plugged during the test; (2) if differential pressure gauges other than inclined manometers (e.g., magnehelic gauges) are used, their calibration must be checked after each test series; and (3) the frequency and validity range for calibration of the temperature sensors.

The VCS ISO 10780:1994, “Stationary Source Emissions—Measurement of Velocity and Volume Flowrate of Gas Streams in Ducts,” is impractical as an alternative to EPA Method 2 in this rulemaking. This standard, ISO 10780:1994, recommends the use of L-shaped pitots, which historically have not been recommended because the S-type design has large openings which are less likely to plug up with dust.

The VCS ASTM D3464-96 (2001), “Standard Test Method Average Velocity in a Duct Using a Thermal Anemometer,” is impractical as an alternative to EPA Method 2 for the purposes of this rulemaking primarily because applicability specifications are not clearly defined, e.g., range of gas composition, temperature limits. Also, the lack of supporting quality assurance data for the calibration procedures and specifications, and certain variability issues that are not adequately addressed by the standard limit our ability to make a definitive comparison of the method in these areas.

Two very similar standards, ASTM D5835-95, “Standard Practice for Sampling Stationary Source Emissions for Automated Determination of Gas Concentration,” and ISO 10396:1993, “Stationary Source Emissions: Sampling for the Automated Determination of Gas Concentrations,” are impractical alternatives to EPA Method 3A for the purposes of this rulemaking because they lack in detail and quality assurance/quality control requirements. Specifically, these two standards do not include the following: (1) Sensitivity of the method; (2) acceptable levels of analyzer calibration error; (3) acceptable levels of sampling system bias; (4) zero drift and calibration drift limits, time span, and required testing frequency; (5) a method to test the interference response of the analyzer; (6) procedures to determine the minimum sampling time per run and minimum measurement time; and (7) specifications for data recorders, in terms of resolution (all types) and recording intervals (digital and analog recorders, only).

Two VCS, EN 12619:1999 “Stationary Source Emissions-Determination of the Mass Concentration of Total Gaseous Organic Carbon at Low Concentrations in Flue Gases—Continuous Flame Ionization Detector Method” and ISO 14965:2000(E) “Air Quality-Determination of Total Nonmethane Organic Compounds-Cryogenic Preconcentration and Direct Flame Ionization Method,” are impractical alternatives to EPA Method 25A for the purposes of this rulemaking because the standards do not apply to solvent process vapors in concentrations greater than 40 ppm carbon for EN 12619 and 10 ppm carbon for ISO 14965. Methods whose upper limits are this low are too limited to be useful in measuring source emissions, which are expected to be much higher.

Four VCS are impractical alternatives to EPA test methods for the purposes of this rulemaking because they are too general, too broad, or not sufficiently detailed to assure compliance with EPA regulatory requirements: ASTM D3796-90 (Reapproved 1996), “Standard Practice for Calibration of Type S Pitot Tubes,” for EPA Method 2; ASME C00031 or PTC 19-10-1981—Part 10, “Flue and Exhaust Gas Analyses,” for EPA Method 3; CAN/CSA Z223.2-M86(1986), “Method for the Continuous Measurement of Oxygen, Carbon Dioxide, Carbon Monoxide, Sulphur Dioxide, and Oxides of Nitrogen in Enclosed Combustion Flue Gas Streams,” for EPA Method 3A; and ASTM E337-84 (Reapproved 1996), “Standard Test Method for Measuring Humidity with a Psychrometer (the Measurement of Wet- and Dry-Bulb Temperatures),” for EPA Method 4.

Three of the 14 VCS identified in this search were not available at the time the review was conducted for the purposes of this rulemaking because they are under development by a voluntary consensus body: ASME/BSR MFC 13M, “Flow Measurement by Velocity Traverse,” for EPA Method 2 (and possibly 1); ASME/BSR MFC 12M, “Flow in Closed Conduits Using Multiport Averaging Pitot Primary Flowmeters,” for EPA Method 2; and ISO/DIS 12039, “Stationary Source Emissions—Determination of Carbon Monoxide, Carbon Dioxide, and Oxygen—Automated Methods,” for EPA Method 3A.

Sections 63.5993, 63.5994, 63.5997, and 63.6000 to subpart XXXX list the EPA testing methods in the final rule. Under 40 CFR 63.8 of subpart A of the General Provisions, a source may apply to obtain permission to use alternative monitoring in place of any of the EPA testing methods.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. This action is not a “major rule” as defined by 5 U.S.C. 804(2). This rule will be effective on July 9, 2002.

List of Subjects in 40 CFR Part 63

Environmental protection, Administrative practice and procedure, Air pollution control, Hazardous substances, Intergovernmental relations, Reporting and recordkeeping requirements, Rubber tire manufacturing.

Dated: May 15, 2002.
Christine Todd Whitman,
Administrator.

For the reasons stated in the preamble, title 40, chapter I, part 63 of the Code of the Federal Regulations is amended as follows:

PART 63—[AMENDED]

1. The authority citation for part 63 continues to read as follows:

Authority: 42 U.S.C. 7401, et seq.

2. Part 63 is amended by adding subpart XXXX to read as follows:

Subpart XXXX—National Emission Standards for Hazardous Air Pollutants: Rubber Tire Manufacturing

Sec.
What This Subpart Covers
63.5980 What is the purpose of this subpart?
63.5981 Am I subject to this subpart?
63.5982 What parts of my facility does this subpart cover?
63.5983 When do I have to comply with this subpart?
Emission Limits for Tire Production Affected Sources
63.5984 What emission limits must I meet for tire production affected sources?
63.5985 What are my alternatives for meeting the emission limits for tire production affected sources?
Emission Limits for Tire Cord Production Affected Sources
63.5986 What emission limits must I meet for tire cord production affected sources?
63.5987 What are my alternatives for meeting the emission limits for tire cord production affected sources?
Emission Limitations for Puncture Sealant Application Affected Sources
63.5988 What emission limitations must I meet for puncture sealant application affected sources?
63.5989 What are my alternatives for meeting the emission limitations for puncture sealant application affected sources?
General Compliance Requirements
63.5990 What are my general requirements for complying with this subpart?
General Testing and Initial Compliance Requirements
63.5991 By what date must I conduct an initial compliance demonstration or performance test?
63.5992 When must I conduct subsequent performance tests?
63.5993 What performance tests and other procedures must I use?
Testing and Initial Compliance Requirements for Tire Production Affected Sources
63.5994 How do I conduct tests and procedures for tire production affected sources?
63.5995 What are my monitoring installation, operation, and maintenance requirements?
63.5996 How do I demonstrate initial compliance with the emission limits for tire production affected sources?
Testing and Initial Compliance Requirements for Tire Cord Production Affected Sources
63.5997 How do I conduct tests and procedures for tire cord production affected sources?
63.5998 What are my monitoring installation, operation, and maintenance requirements?
63.5999 How do I demonstrate initial compliance with the emission limits for tire cord production affected sources?
Testing and Initial Compliance Requirements for Puncture Sealant Application Affected Sources
63.6000 How do I conduct tests and procedures for puncture sealant application affected sources?
63.6001 What are my monitoring installation, operation, and maintenance requirements?
63.6002 How do I demonstrate initial compliance with the emission limits for puncture sealant application affected sources?
Continuous Compliance Requirements for Tire Production Affected Sources
63.6003 How do I monitor and collect data to demonstrate continuous compliance with the emission limits for tire production affected sources?
63.6004 How do I demonstrate continuous compliance with the emission limits for tire production affected sources?
Continuous Compliance Requirements for Tire Cord Production Affected Sources
63.6005 How do I monitor and collect data to demonstrate continuous compliance with the emission limits for tire cord production affected sources?
63.6006 How do I demonstrate continuous compliance with the emission limits for tire cord production affected sources?
Continuous Compliance Requirements for Puncture Sealant Application Affected Sources
63.6007 How do I monitor and collect data to demonstrate continuous compliance with the emission limitations for puncture sealant application affected sources?
63.6008 How do I demonstrate continuous compliance with the emission limitations for puncture sealant application affected sources?
Notifications, Reports, and Records
63.6009 What notifications must I submit and when?
63.6010 What reports must I submit and when?
63.6011 What records must I keep?
63.6012 In what form and how long must I keep my records?
Other Requirements and Information
63.6013 What parts of the General Provisions apply to me?
63.6014 Who implements and enforces this subpart?
63.6015 What definitions apply to this subpart?
Tables to Subpart XXXX of Part 63
Table 1 to Subpart XXXX of Part 63—Emission Limits for Tire Production Affected Sources
Table 2 to Subpart XXXX of Part 63—Emission Limits for Tire Cord Production Affected Sources
Table 3 to Subpart XXXX of Part 63—Emission Limits for Puncture Sealant Application Affected Sources
Table 4 to Subpart XXXX of Part 63—Operating Limits for Puncture Sealant Application Control Devices
Table 5 to Subpart XXXX of Part 63—Requirements for Performance Tests
Table 6 to Subpart XXXX of Part 63—Initial Compliance with the Emission Limits for Tire Production Affected Sources
Table 7 to Subpart XXXX of Part 63—Initial Compliance with the Emission Limits for Tire Cord Production Affected Sources
Table 8 to Subpart XXXX of Part 63—Initial Compliance with the Emission Limits for Puncture Sealant Application Affected Sources
Table 9 to Subpart XXXX of Part 63—Minimum Data for Continuous Compliance with the Emission Limits for Tire Production Affected Sources
Table 10 to Subpart XXXX of Part 63—Continuous Compliance with the Emission Limits for Tire Production Affected Sources
Table 11 to Subpart XXXX of Part 63—Minimum Data for Continuous Compliance with the Emission Limits for Tire Cord Production Affected Sources
Table 12 to Subpart XXXX of Part 63—Continuous Compliance with the Emission Limits for Tire Cord Production Affected Sources
Table 13 to Subpart XXXX of Part 63—Minimum Data for Continuous Compliance with the Emission Limitations for Puncture Sealant Application Affected Sources
Table 14 to Subpart XXXX of Part 63—Continuous Compliance with the Emission Limitations for Puncture Sealant Application Affected Sources
Table 15 to Subpart XXXX of Part 63—Requirements for Reports
Table 16 to Subpart XXXX of Part 63—Selected Hazardous Air Pollutants
Table 17 to Subpart XXXX of Part 63—Applicability of General Provisions to This Subpart XXXX

Subpart XXXX—National Emissions Standards for Hazardous Air Pollutants: Rubber Tire Manufacturing

What This Subpart Covers

§ 63.5980 What is the purpose of this subpart?

This subpart establishes national emission standards for hazardous air pollutants (NESHAP) for rubber tire manufacturing. This subpart also establishes requirements to demonstrate initial and continuous compliance with the emission limitations.

§ 63.5981 Am I subject to this subpart?

(a) You are subject to this subpart if you own or operate a rubber tire manufacturing facility that is located at, or is a part of, a major source of hazardous air pollutant (HAP) emissions.

(1) Rubber tire manufacturing includes the production of rubber tires and/or the production of components integral to rubber tires, the production of tire cord, and the application of puncture sealant. Components of rubber tires include, but are not limited to, rubber compounds, sidewalls, tread, tire beads, tire cord and liners. Other components often associated with rubber tires but not integral to the tire, such as wheels, inner tubes, tire bladders, and valve stems, are not components of rubber tires or tire cord and are not subject to this subpart.

(2) A major source of HAP emissions is any stationary source or group of stationary sources within a contiguous area and under common control that emits or has the potential to emit considering controls, in the aggregate, any single HAP at a rate of 9.07 megagrams (10 tons) or more per year or any combination of HAP at a rate of 22.68 megagrams (25 tons) or more per year.

(b) You are not subject to this subpart if the affected source at your rubber tire manufacturing facility meets either of the conditions described in paragraph (b)(1) or (2) of this section.

(1) You own or operate a tire cord production affected source, but the primary product produced at the affected source is determined to be subject to another subpart under this part 63 as of the effective date of that subpart (publication date of the final rule) or startup of the source, whichever is later. In this case, you must determine which subpart applies to your source and you must be in compliance with the applicable subpart by the compliance date of that subpart. The primary product is the product that is produced for the greatest operating time over a 5-year period, based on expected utilization for the 5 years following the compliance date or following initial startup of the source, whichever is later.

(2) Your rubber tire manufacturing affected source is a research and development facility whose primary purpose is to conduct research and development into new processes and products, where such source is operated under the close supervision of technically trained personnel and is not engaged in the manufacture of products for commercial sale in commerce, except in a de minimis manner.

§ 63.5982 What parts of my facility does this subpart cover?

(a) This subpart applies to each existing, new, or reconstructed affected source at facilities engaged in the manufacture of rubber tires or their components.

(b) The affected sources are defined in paragraph (b)(1) of this section (tire production), paragraph (b)(2) of this section (tire cord production), paragraph (b)(3) of this section (puncture sealant application), and paragraph (b)(4) of this section (rubber processing).

(1) The tire production affected source is the collection of all processes that use or process cements and solvents as defined in § 63.6015, located at any rubber tire manufacturing facility. It includes, but is not limited to: Storage and mixing vessels and the transfer equipment containing cements and/or solvents; wastewater handling and treatment operations; tread and cement operations; tire painting operations; ink and finish operations; undertread cement operations; process equipment cleaning materials; bead cementing operations; tire building operations; green tire spray operations; extruding, to the extent cements and solvents are used; cement house operations; marking operations; calendar operations, to the extent solvents are used; tire striping operations; tire repair operations; slab dip operations; other tire building operations, to the extent that cements and solvents are used; and balance pad operations.

(2) The tire cord production affected source is the collection of all processes engaged in the production of tire cord. It includes, but is not limited to: dipping operations, drying ovens, heat-set ovens, bulk storage tanks, mixing facilities, general facility vents, air pollution control devices, and warehouse storage vents.

(3) The puncture sealant application affected source is the puncture sealant application booth operation used to apply puncture sealant to finished tires.

(4) The rubber processing affected source is the collection of all rubber mixing processes (e.g., banburys and associated drop mills) that either mix compounds or warm rubber compound before the compound is processed into components of rubber tires. The mixed rubber compound itself is also included in the rubber processing affected source. There are no emission limitations or other requirements for the rubber processing affected source.

(c) An affected source is a new affected source if construction of the affected source commenced after October 18, 2000, and it met the applicability criteria of § 63.5981 at the time construction commenced.

(d) An affected source is reconstructed if it meets the criteria as defined in § 63.2.

(e) An affected source is existing if it is not new or reconstructed.

§ 63.5983 When do I have to comply with this subpart?

(a) If you have a new or reconstructed affected source, except as provided in §§ 63.5982(b)(4) and 63.5981(b)(1), you must comply with the emission limitations for new and reconstructed sources in this subpart upon startup.

(b) If you have an existing affected source, you must comply with the emission limitations for existing sources no later than July 11, 2005.

(c) If you have an area source that increases its emissions or its potential to emit such that it becomes a major source of HAP, the affected source(s) must be in compliance with existing source emission limitations no later than 3 years after the date on which the area source became a major source.

(d) You must meet the notification requirements in § 63.6009 according to the schedule in § 63.6009 and in subpart A of this part. Some of the notifications must be submitted before the date you are required to comply with the emission limitations in this subpart.

Emission Limits for Tire Production Affected Sources

§ 63.5984 What emission limits must I meet for tire production affected sources?

You must meet each emission limit in either option 1 or option 2 of Table 1 to this subpart that applies to you.

§ 63.5985 What are my alternatives for meeting the emission limits for tire production affected sources?

You must use one of the compliance alternatives in paragraphs (a) through (c) of this section to meet either of the emission limits in § 63.5984.

(a) Purchase alternative. Use only cements and solvents that, as purchased, contain no more HAP than allowed by the emission limits in Table 1 to this subpart, option 1 (HAP constituent option).

(b) Monthly average alternative, without using an add-on control device. Use cements and solvents in such a way that the monthly average HAP emissions do not exceed the emission limits in Table 1 to this subpart, option 1 or option 2.

(c) Monthly average alternative, using an add-on control device. Use a control device to reduce HAP emissions so that the monthly average HAP emissions do not exceed the emission limits in Table 1 to this subpart, option 1 or option 2.

Emission Limits for Tire Cord Production Affected Sources

§ 63.5986 What emission limits must I meet for tire cord production affected sources?

You must meet each emission limit in either option 1 or option 2 of Table 2 to this subpart that applies to you.

§ 63.5987 What are my alternatives for meeting the emission limits for tire cord production affected sources?

You must use one of the compliance alternatives in paragraph (a) or (b) of this section to meet the emission limits in § 63.5986.

(a) Monthly average alternative, without using an add-on control device. Use coatings in such a way that the monthly average HAP emissions do not exceed the emission limits in Table 2 to this subpart.

(b) Monthly average alternative, using an add-on control device. Use a control device to reduce HAP emissions so that the monthly average HAP emissions do not exceed the emission limits in Table 2 to this subpart.

Emission Limitations for Puncture Sealant Application Affected Sources

§ 63.5988 What emission limitations must I meet for puncture sealant application affected sources?

(a) You must meet each emission limit in either option 1 or option 2 of Table 3 to this subpart that applies to you.

(b) If you use an add-on control device to meet the emission limits in Table 3 to this subpart, you must also meet each operating limit in Table 4 to this subpart that applies to you.

§ 63.5989 What are my alternatives for meeting the emission limitations for puncture sealant application affected sources?

You must use one of the compliance alternatives in paragraphs (a) through (d) of this section to meet the emission limitations in § 63.5988.

(a) Overall control efficiency alternative. Use an emissions capture system and control device and demonstrate that the application booth emissions meet the emission limits in Table 3 to this subpart, option 1a or 1b, and the control device and capture system meet the operating limits in Table 4 to this subpart.

(b) Permanent total enclosure and control device efficiency alternative. Use a permanent total enclosure that satisfies the Method 204 criteria in 40 CFR part 51, appendix M. Demonstrate that the control device meets the emission limits in Table 3 to this subpart, option 1a or 1b. You must also show that the control device and capture system meet the operating limits in Table 4 to this subpart.

(c) Monthly average alternative, without using an add-on control device. Use puncture sealants in such a way that the monthly average HAP emissions do not exceed the emission limits in Table 3 to this subpart, option 2.

(d) Monthly average alternative, using an add-on control device. Use a control device to reduce HAP emissions so that monthly average HAP emissions do not exceed the emission limits in Table 3 to this subpart, option 2.

General Compliance Requirements

§ 63.5990 What are my general requirements for complying with this subpart?

(a) You must be in compliance with the applicable emission limitations specified in Tables 1 through 4 to this subpart at all times, except during periods of startup, shutdown, and malfunction if you are using a control device to comply with an emission limit.

(b) Except as provided in § 63.5982(b)(4), you must always operate and maintain your affected source, including air pollution control and monitoring equipment, according to the provisions in § 63.6(e)(1)(i).

(c) During the period between the compliance date specified for your source in § 63.5983 and the date upon which continuous compliance monitoring systems (CMS) have been installed and validated and any applicable operating limits have been set, you must maintain a log detailing the operation and maintenance of the process and emission control equipment.

(d) For each affected source that complies with the emission limits in Tables 1 through 3 to this subpart using a control device, you must develop and implement a written startup, shutdown, and malfunction plan according to the provisions in § 63.6(e)(3).

(e) For each monitoring system required in this section, you must develop and submit for approval a site-specific monitoring plan that addresses the requirements in paragraphs (e)(1) through (3) of this section as follows:

(1) Installation of the CMS sampling probe or other interface at a measurement location relative to each affected process unit so that the measurement is representative of control of the exhaust emissions (e.g., on or downstream of the last control device);

(2) Performance and equipment specifications for the sample interface, the pollutant concentration or parametric signal analyzer, and the data collection and reduction system; and

(3) Performance evaluation procedures and acceptance criteria (e.g., calibrations).

(f) In your site-specific monitoring plan, you must also address the ongoing procedures specified in paragraphs (f)(1) through (3) of this section as follows:

(1) Ongoing operation and maintenance procedures in accordance with the general requirements of § 63.8(c)(1), (3), (4)(ii), (7), and (8), and this section;

(2) Ongoing data quality assurance procedures in accordance with the general requirements of § 63.8(d); and

(3) Ongoing recordkeeping and reporting procedures in accordance with the general requirements of § 63.10(c), (e)(1), and (e)(2)(i).

General Testing and Initial Compliance Requirements

§ 63.5991 By what date must I conduct an initial compliance demonstration or performance test?

(a) If you have a new or reconstructed affected source, you must conduct each required initial compliance demonstration or performance test within 180 calendar days after the compliance date that is specified for your new or reconstructed affected source in § 63.5983(a). If you are required to conduct a performance test, you must do so according to the provisions of § 63.7(a)(2).

(b) If you have an existing affected source, you must conduct each required initial compliance demonstration or performance test no later than the compliance date that is specified for your existing affected source in § 63.5983(b). If you are required to conduct a performance test, you must do so according to the provisions of § 63.7(a)(2).

(c) If you commenced construction or reconstruction between October 18, 2000 and July 9, 2002, you must demonstrate initial compliance with either the proposed emission limitations or the promulgated emission limitations no later than January 6, 2003, or within 180 calendar days after startup of the source, whichever is later, according to § 63.7(a)(2)(ix).

(d) If you commenced construction or reconstruction between October 18, 2000 and July 9, 2002, and you chose to comply with the proposed emission limitation when demonstrating initial compliance, you must conduct a second compliance demonstration for the promulgated emission limitation no later than January 5, 2006, or after startup of the source, whichever is later, according to § 63.7(a)(2)(ix).

§ 63.5992 When must I conduct subsequent performance tests?

If you use a control system (add-on control device and capture system) to meet the emission limitations, you must also conduct a performance test at least once every 5 years following your initial compliance demonstration to verify control system performance and reestablish operating parameters or operating limits for control systems used to comply with the emissions limits.

§ 63.5993 What performance tests and other procedures must I use?

(a) If you use a control system to meet the emission limitations, you must conduct each performance test in Table 5 to this subpart that applies to you.

(b) Each performance test must be conducted according to the requirements in § 63.7(e)(1) and under the specific conditions specified in Table 5 to this subpart.

(c) You may not conduct performance tests during periods of startup, shutdown, or malfunction, as specified in § 63.7(e)(1).

(d) You must conduct three separate test runs for each performance test required in this section, as specified in § 63.7(e)(1), unless otherwise specified in the test method. Each test run must last at least 1 hour.

(e) If you are complying with the emission limitations using a control system, you must also conduct performance tests according to the requirements in paragraphs (e)(1) through (3) of this section as they apply to you.

(1) Determining capture efficiency of permanent or temporary total enclosure. Determine the capture efficiency of a capture system by using one of the procedures in Table 5 to this subpart.

(2) Determining capture efficiency of an alternative method. As an alternative to constructing a permanent or temporary total enclosure, you may determine the capture efficiency using any capture efficiency protocol and test methods if the data satisfy the criteria of either the Data Quality Objective or the Lower Confidence Limit approach in appendix A to subpart KK of this part.

(3) Determining efficiency of an add-on control device. Use Table 5 to this subpart to select the test methods for determining the efficiency of an add-on control device.

Testing and Initial Compliance Requirements for Tire Production Affected Sources

§ 63.5994 How do I conduct tests and procedures for tire production affected sources?

(a) Methods to determine the mass percent of HAP in cements and solvents. To determine the HAP content in the cements and solvents used at your tire production affected source, use EPA Method 311 of appendix A of this part, an approved alternative method, or any other reasonable means for determining the HAP content of your cements and solvents. Other reasonable means include, but are not limited to: a material safety data sheet (MSDS), provided it contains appropriate information; a certified product data sheet (CPDS); or a manufacturer's hazardous air pollutant data sheet. You are not required to test the materials that you use, but the Administrator may require a test using EPA Method 311 (or an approved alternative method) to confirm the reported HAP content. If the results of an analysis by EPA Method 311 are different from the HAP content determined by another means, the EPA Method 311 results will govern compliance determinations.

(b) Methods to demonstrate compliance with the HAP constituent emission limits in Table 1 to this subpart (option 1). Use the method in paragraph (b)(1) of this section to demonstrate initial and continuous compliance with the applicable emission limits for tire production affected sources using the compliance alternative described in § 63.5985(a), purchase alternative. Use the equations in paragraphs (b)(2) and (3) of this section to demonstrate initial and continuous compliance with the emission limits for tire production affected sources using the monthly average compliance alternatives described in § 63.5985(b) and (c).

(1) Determine the mass percent of each HAP in each cement and solvent according to the procedures in paragraph (a) of this section.

(2) Use Equation 1 of this section to calculate the HAP emission rate for each monthly operating period when complying by using cements and solvents without using an add-on control device so that the monthly average HAP emissions do not exceed the HAP constituent emission limits in Table 1 to this subpart, option 1. Equation 1 follows:

Where:

Emonth=mass of the specific HAP emitted per total mass cements and solvents from all cements and solvents used in tire production per month, grams per megagram.

HAPi=mass percent, expressed as a decimal, of the specific HAP in cement and solvent i, as purchased, determined in accordance with paragraph (a) of this section.

TMASSi=total mass of cement and solvent i used in the month, grams.

n=number of cements and solvents used in the month.

(3) Use Equation 2 of this section to calculate the HAP emission rate for each monthly period when complying by using a control device to reduce HAP emissions so that the monthly average HAP emissions do not exceed the HAP constituent emission limits in Table 1 to this subpart (option 1). Equation 2 follows:

Where:

Emonth=mass of the specific HAP emitted per total mass cements and solvents from all cements and solvents used in tire production per month, grams per megagram.

HAPi=mass percent, expressed as a decimal, of the specific HAP in cement and solvent i, as purchased, determined in accordance with paragraph (a) of this section for cements and solvents used in the month in processes that are not routed to a control device.

TMASSi=total mass of cement and solvent i used in the month in processes that are not routed to a control device, grams.

n=number of cements and solvents used in the month in processes that are not routed to a control device.

HAPj=mass percent, expressed as a decimal, of the specific HAP in cement and solvent j, as purchased, determined in accordance with paragraph (a) of this section, for cements and solvents used in the month in processes that are routed to a control device during operating days, which are defined as days when the control system is operating within the operating range established during the performance test and when monitoring data are collected.

TMASSj=total mass of cement and solvent j used in the month in processes that are routed to a control device during all operating days, grams.

EFF=efficiency of the control system determined during the performance test (capture system efficiency multiplied by the control device efficiency), percent.

m=number of cements and solvents used in the month that are routed to a control device during all operating days.

HAPk=mass percent, expressed as a decimal, of the specific HAP in cement and solvent k, as purchased, for cements and solvents used in the month in processes that are routed to a control device during non-control operating days, which are defined as days when either the control system is not operating within the operating range established during the performance test or when monitoring data are not collected.

TMASSk=total mass of cement and solvent k used in the month in processes that are routed to a control device during all non-control operating days, grams.

p=number of cements and solvents used in the month that are routed to a control device during all non-control operating days.

(4) Each monthly calculation is a compliance demonstration for the purpose of this subpart.

(c) Methods to demonstrate compliance with the production-based emission limits in Table 1 to this subpart, option 2. Use the methods and equations in paragraphs (c)(1) through (6) of this section to demonstrate initial and continuous compliance with the production-based emission limits for tire production affected sources using the compliance alternatives described in § 63.5985(b) and (c).

(1) Methods to determine the mass percent of each HAP in cements and solvents. Determine the mass percent of all HAP in cements and solvents using the applicable methods specified in paragraph (a) of this section.

(2) Quantity of rubber used. Determine your quantity of rubber used (megagrams) by accounting for the total mass of mixed rubber compound that is delivered to the tire production operation.

(3) Compliance without use of an add-on control device. If you do not use an add-on control device to meet the emission limits, use Equation 3 of this section to calculate the monthly HAP emission rate in grams of HAP emitted per megagram of rubber used, using the quantity of rubber used per month (megagrams), as determined in paragraph (c)(2) of this section so that the monthly average HAP emission does not exceed the HAP emission limit in Table 1 to this subpart, option 2. Equation 3 follows:

Where:

Emonth=mass of all HAP emitted per total mass of rubber used month, grams per megagram.

HAPi=mass percent, expressed as a decimal, of all HAP in cement and solvent i, as purchased, determined in accordance with paragraph (a) of this section.

TMASSi=total mass of cement and solvent i used in the month, grams.

n=number of cements and solvents used in the month.

RMASS=total mass of rubber used per month, megagrams.

(4) Compliance with use of an add-on control device. If you use a control device to meet the emission limits, use Equation 4 of this section to calculate the monthly HAP emission rate in grams of HAP emitted per megagram of rubber used, using the quantity of rubber used per month (megagrams), as determined in paragraph (c)(2) of this section so that the monthly average HAP emission does not exceed the HAP emission limit in Table 1 of this subpart, option 2. Equation 4 follows:

Where:

Emonth=mass of all HAP emitted per total mass rubber used per month, grams per megagram.

HAPi=mass percent, expressed as a decimal, of all HAP in cement and solvent i, as purchased, determined in accordance with paragraph (a) of this section for cements and solvents used in the month in processes that are not routed to a control device.

TMASSi=total mass of cement and solvent i used in the month in processes that are not routed to a control device, grams.

n=number of cements and solvents used in the month in processes that are not routed to a control device.

HAPj=mass percent, expressed as a decimal, of all HAP in cement and solvent j, as purchased, determined in accordance with paragraph (a) of this section, for cements and solvents used in the month in processes that are routed to a control device during operating days, which are defined as days when the control system is operating within the operating range established during the performance test and when monitoring data are collected.

TMASSj=total mass of cement and solvent j used in the month in processes that are routed to a control device during all operating days.

EFF=efficiency of the control system determined during the performance test (capture system efficiency multiplied by the control device efficiency), percent.

m=number of cements and solvents used in the month that are routed to a control device during all operating days.

HAPk=mass percent, expressed as a decimal, of the specific HAP in cement and solvent k, as purchased, for cements and solvents used in the month in processes that are routed to a control device during non-control operating days, which are defined as days when either the control system is not operating within the operating range established during the performance test or when monitoring data are not collected.

TMASSk=total mass of cement and solvent k used in the month in processes that are routed to a control device during all non-control operating days, grams.

p=number of cements and solvents used in the month that are routed to a control device during all non-control operating days.

RMASS=total mass of rubber used per month, megagrams.

(5) Each monthly calculation is a compliance demonstration for the purpose of this subpart.

(d) Specific compliance demonstration requirements for tire production affected sources. (1) Conduct any required compliance demonstration according to the requirements in § 63.5993.

(2) If you are demonstrating compliance with the HAP constituent option in Table 1 to this subpart, option 1, conduct the compliance demonstration using cements and solvents that are representative of cements and solvents typically used at your tire production affected source.

(3) Establish an operating range that corresponds to the control efficiency as described in Table 5 to this subpart.

(e) How to take credit for HAP emissions reductions from add-on control devices. If you want to take credit in Equations 2 and 4 of this section for HAP emissions reduced using a control system, you must meet the requirements in paragraphs (e)(1) and (2) of this section.

(1) Monitor the established operating parameters as appropriate.

(i) If you use a thermal oxidizer, monitor the firebox secondary chamber temperature.

(ii) If you use a carbon adsorber, monitor the total regeneration stream mass or volumetric flow for each regeneration cycle, and the carbon bed temperature after each regeneration, and within 15 minutes of completing any cooling cycle.

(iii) If you use a control device other than a thermal oxidizer or a regenerative carbon adsorber, install and operate a continuous parameter monitoring system according to your site-specific performance test plan submitted according to § 63.7(c)(2)(i).

(iv) If you use a permanent total enclosure, monitor the face velocity across the natural draft openings (NDO) in the enclosure. Also, if you use an enclosure, monitor to ensure that the sizes of the NDO have not changed, that there are no new NDO, and that a HAP emission source has not been moved closer to an NDO since the last compliance demonstration was conducted.

(v) If you use other capture systems, monitor the parameters identified in your monitoring plan.

(2) Maintain the operating parameters within the operating range established during the compliance demonstration.

(f) How to take credit for HAP emissions reductions when streams are combined. When performing material balances to demonstrate compliance, if the storage of materials, exhaust, or the wastewater from more than one affected source are combined at the point where control systems are applied, any credit for emissions reductions needs to be prorated among the affected sources based on the ratio of their contribution to the uncontrolled emissions.

§ 63.5995 What are my monitoring installation, operation, and maintenance requirements?

(a) For each operating parameter that you are required by § 63.5994(e)(1) to monitor, you must install, operate, and maintain a continuous parameter monitoring system (CPMS) according to the requirements in § 63.5990(e) and (f) and in paragraphs (a)(1) through (6) of this section.

(1) You must operate your CPMS at all times that the process is operating.

(2) You must collect data from at least four equally spaced periods each hour.

(3) For at least 75 percent of the hours in an operating day, you must have valid data (as defined in your site-specific monitoring plan) for at least four equally spaced periods each hour.

(4) For each hour that you have valid data from at least four equally spaced periods, you must calculate the hourly average value using all valid data.

(5) You must calculate the daily average using all of the hourly averages calculated according to paragraph (a)(3) of this section for the 24-hour period.

(6) You must record the results for each inspection, calibration, and validation check as specified in your site-specific monitoring plan.

(b) For each temperature monitoring device, you must meet the requirements in paragraphs (a) and (b)(1) through (8) of this section.

(1) Locate the temperature sensor in a position that provides a representative temperature.

(2) For a non-cryogenic temperature range, use a temperature sensor with a minimum measurement sensitivity of 2.2 degrees centigrade or 0.75 percent of the temperature value, whichever is larger.

(3) For a cryogenic temperature range, use a temperature sensor with a minimum measurement sensitivity of 2.2 degrees centigrade or 2 percent of the temperature value, whichever is larger.

(4) Shield the temperature sensor system from electromagnetic interference and chemical contaminants.

(5) If a chart recorder is used, it must have a sensitivity in the minor division of at least 20 degrees Fahrenheit.

(6) Perform an electronic calibration at least semiannually according to the procedures in the manufacturer's owners manual. Following the electronic calibration, you must conduct a temperature sensor validation check in which a second or redundant temperature sensor placed near the process temperature sensor must yield a reading within 16.7 degrees centigrade of the process temperature sensor's reading.

(7) Conduct calibration and validation checks any time the sensor exceeds the manufacturer's specified maximum operating temperature range or install a new temperature sensor.

(8) At least monthly, inspect all components for integrity and all electrical connections for continuity, oxidation, and galvanic corrosion.

(c) For each integrating regeneration stream flow monitoring device associated with a carbon adsorber, you must meet the requirements in paragraphs (a) and (c)(1) and (2) of this section.

(1) Use a device that has an accuracy of ±10 percent or better.

(2) Use a device that is capable of recording the total regeneration stream mass or volumetric flow for each regeneration cycle.

(d) For any other control device, or for other capture systems, ensure that the CPMS is operated according to a monitoring plan submitted to the Administrator with the compliance status report required by § 63.9(h). The monitoring plan must meet the requirements in paragraphs (a) and (d)(1) through (3) of this section. Conduct monitoring in accordance with the plan submitted to the Administrator unless comments received from the Administrator require an alternate monitoring scheme.

(1) Identify the operating parameter to be monitored to ensure that the control or capture efficiency measured during the initial compliance test is maintained.

(2) Discuss why this parameter is appropriate for demonstrating ongoing compliance.

(3) Identify the specific monitoring procedures.

(e) For each pressure differential monitoring device, you must meet the requirements in paragraphs (a) and (e)(1) and (2) of this section.

(1) Conduct a quarterly EPA Method 2 procedure (found in 40 CFR part 60, appendix A) on the applicable NDOs and use the results to calibrate the pressure monitor if the difference in results are greater than 10 percent.

(2) Inspect the NDO monthly to ensure that their size has not changed, that there are no new NDO, and that no HAP sources have been moved closer to the NDO than when the last performance test was conducted.

§ 63.5996 How do I demonstrate initial compliance with the emission limits for tire production affected sources?

(a) You must demonstrate initial compliance with each emission limit that applies to you according to Table 6 to this subpart.

(b) You must submit the Notification of Compliance Status containing the results of the initial compliance demonstration according to the requirements in § 63.6009(e).

Testing and Initial Compliance Requirements for Tire Cord Production Affected Sources

§ 63.5997 How do I conduct tests and procedures for tire cord production affected sources?

(a) Methods to determine the mass percent of each HAP in coatings. (1) To determine the HAP content in the coating used at your tire cord production affected source, use EPA Method 311 of appendix A of this part, an approved alternative method, or any other reasonable means for determining the HAP content of your coatings. Other reasonable means include, but are not limited to: an MSDS, provided it contains appropriate information; a CPDS; or a manufacturer's HAP data sheet. You are not required to test the materials that you use, but the Administrator may require a test using EPA Method 311 (or an approved alternative method) to confirm the reported HAP content. If the results of an analysis by EPA Method 311 are different from the HAP content determined by another means, the EPA Method 311 results will govern compliance determinations.

(2) Unless you demonstrate otherwise, the HAP content analysis must be based on coatings prior to any cross-linking reactions, i.e., curing. However, you may account for differences in HAP emissions resulting from chemical reactions based on the conversion rates of the individual coating formulations, chemistry demonstrations, or other demonstrations that are verifiable to the approving agency. Use the revised value in your compliance demonstration in the relevant equations in paragraph (b) of this section.

(b) Methods to determine compliance with the emission limits in Table 2 to this subpart, option 1. Use the equations in this paragraph (b) to demonstrate initial and continuous compliance with the emission limits for tire cord production sources using the compliance alternatives described in § 63.5987(a) and (b).

(1) Determine mass percent of HAP. Determine the mass percent of all HAP in each coating according to the procedures in paragraph (a) of this section.

(2) Compliance without use of an add-on control device. If you do not use an add-on control device to meet the emission limits, use Equation 1 of this section to calculate the monthly HAP emission rate in grams of HAP emitted per megagram of fabric processed at the tire cord production source to show that the monthly average HAP emissions do not exceed the emission limits in Table 2 to this subpart, option 1. Equation 1 follows:

Where:

Emonth=mass of all HAP emitted per total mass of fabric processed in the month, grams per megagram.

HAPi=mass percent, expressed as a decimal, of all HAP in the coating i, prior to curing and including any application station dilution, determined in accordance with paragraph (a) of this section.

TCOATi=total mass of coating i made and used for application to fabric at the facility in the month, grams.

n=number of coatings used in the month.

TFAB=total mass of fabric processed in the month, megagrams.

(3) Compliance with use of an add-on control device. If you use a control device to meet the emission limits, use Equation 2 of this section to calculate the monthly HAP emission rate in grams of HAP emitted per megagram of fabric processed to show that the monthly average HAP emissions do not exceed the HAP emission limit in Table 2 of this subpart, option 1. Equation 2 follows:

Where:

Emonth=mass of all HAP emitted per total mass of fabric processed in the month, grams per megagram.

HAPi=mass percent, expressed as a decimal, of all HAP in coating i, prior to curing and including any application stations dilution, determined in accordance with paragraph (a) of this section, for coatings used in the month in processes that are not routed to a control device.

TCOATi=total mass of coating i made and used for application to fabric at the facility in the month in processes that are not routed to a control device, grams.

n=number of coatings used in the month in processes that are not routed to a control device.

HAPj=mass percent, expressed as a decimal, of all HAP in coating j, prior to curing and including any application station dilution, determined in accordance with paragraph (a) of this section, for coatings used in the month in processes that are routed to a control device during operating days, which are defined as days when the control system is operating within the operating range established during the performance test and when monitoring data are collected.

TCOATj=total mass of coating j made and used for application to fabric at the facility in the month in processes that are routed to a control device during all operating days, grams.

EFF=efficiency of the control system determined during the performance test (capture system efficiency multiplied by the control device efficiency), percent.

m=number of coatings used in the month that are routed to a control device during all operating days.

HAPk=mass percent, expressed as a decimal, of all HAP in coating k, prior to curing and including any application station dilution, for coatings used in the month in processes that are routed to a control device during non-control operating days, which are defined as days when either the control system is not operating within the operating range established during the performance test or when monitoring data are not collected.

TCOATk=total mass of coating k made and used for application to fabric at the facility in the month in processes that are routed to a control device during all non-control operating days, grams.

p=number of coatings used in the month that are routed to a control device during all non-control operating days.

TFAB=total mass of fabric processed in the month, megagrams.

(4) Each monthly calculation is a compliance demonstration for the purpose of this subpart.

(c) Methods to determine compliance with the emission limits in Table 2 of this subpart, option 2. Use the equations in this paragraph (c) to demonstrate initial and continuous compliance with the emission limits for tire cord production sources using the compliance alternatives described in § 63.5987(a) and (b).

(1) Determine the mass percent of each HAP in each coating according to the procedures in paragraph (a) of this section.

(2) Use Equation 3 of this section to calculate the monthly average HAP emission rate when complying by using coatings without using an add-on control device to show that the monthly average HAP emissions do not exceed the emission limits in Table 2 to this subpart, option 2. Equation 3 follows:

Where:

Emonth=mass of the specific HAP emitted per total mass of coatings from all coatings made and used in tire cord fabric production per month, grams per megagram.

HAPi=mass percent, expressed as a decimal, of the specific HAP in the coating i, prior to curing and including any application station dilution, determined in accordance with paragraph (a) of this section.

TCOATi=total mass of coating i made and used for application to fabric at the facility in the month, grams.

n=number of coatings used in the month.

(3) Use Equation 4 of this section to calculate the monthly average HAP emission rate when complying by using an add-on control device to show that the monthly average HAP emissions do not exceed the emission limits in Table 2 to this subpart, option 2. Equation 4 follows:

Where:

Emonth=mass of the specific HAP emitted per total mass of coatings from all coatings made and used in tire cord fabric production per month, grams per megagram.

HAPi=mass percent, expressed as a decimal, of the specific HAP in coating i, prior to curing and including any application station dilution, determined in accordance with paragraph (a) of this section, for coatings used in the month in processes that are not routed to a control device.

TCOATi=total mass of coating i made and used for application to fabric at the facility in the month in processes that are not routed to a control device, grams.

n=number of coatings used in the month in processes that are not routed to a control device.

HAPj=mass percent, expressed as a decimal, of the specific HAP in coating j, prior to curing and including any application station dilution, determined in accordance with paragraph (a) of this section, for coatings used in the month in processes that are routed to a control device during operating days, which are defined as days when the control system is operating within the operating range established during the performance test and when monitoring data are collected.

TCOATj=total mass of coating i made and used for application to fabric at the facility in the month in processes that are routed to a control device during all operating days, grams.

EFF=efficiency of the control system determined during the performance test (capture system efficiency multiplied by the control device efficiency), percent.

m=number of coatings used in the month that are routed to a control device during all operating days.

HAPk=mass percent, expressed as a decimal, of the specific HAP in coating k, prior to curing and including any application station dilution, for coatings used in the month in processes that are routed to a control device during non-control operating days, which are defined as days when either the control system is not operating within the operating range established during the performance test or when monitoring data are not collected.

TCOATk=total mass of coating i made and used for application to fabric at the facility in the month in processes that are routed to a control device during all non-control operating days, grams.

p = number of coatings used in the month that are routed to a control device during all non-control operating days.

(4) Each monthly calculation is a compliance demonstration for the purpose of this subpart.

(d) Specific compliance demonstration requirements for tire cord production affected sources. (1) Conduct any required compliance demonstrations according to the requirements in § 63.5993.

(2) Conduct the compliance demonstration using coatings with average mass percent HAP content that are representative of the coatings typically used at your tire cord production affected source.

(3) Establish an operating range that corresponds to the control efficiency as described in Table 5 to this subpart.

(e) How to take credit for HAP emissions reductions from add-on control devices. If you want to take credit in Equations 2 and 4 of this section for HAP emissions reduced using a control system, you must meet the requirements in paragraphs (e)(1) and (2) of this section.

(1) Monitor the established operating parameters as appropriate.

(i) If you use a thermal oxidizer, continuously monitor the firebox secondary chamber temperature.

(ii) If you use a carbon adsorber, monitor the total regeneration stream mass or volumetric flow for each regeneration cycle and the carbon bed temperature after each regeneration and within 15 minutes of completing any cooling cycle.

(iii) If you use a control device other than a thermal oxidizer or a regenerative carbon adsorber, install and operate a continuous parameter monitoring system according to your site-specific performance test plan submitted according to § 63.7(c)(2)(i).

(iv) If you use a permanent total enclosure, monitor the face velocity across the NDO in the enclosure. Also, if you use an enclosure, monitor to ensure that the sizes of the NDO have not changed, that there are no new NDO, and that a HAP emission source has not been moved closer to an NDO since the last performance test was conducted.

(v) If you use other capture systems, monitor the parameters identified in your monitoring plan.

(2) Maintain the operating parameter within the operating range established during the compliance demonstration.

(f) How to take credit for HAP emissions reductions when streams are combined. When performing material balances to demonstrate compliance, if the storage of materials, exhaust, or the wastewater from more than one affected source are combined at the point where control systems are applied, any credit for emissions reductions needs to be prorated among the affected sources based on the ratio of their contribution to the uncontrolled emissions.

§ 63.5998 What are my monitoring installation, operation, and maintenance requirements?

For each operating parameter that you are required by § 63.5997(e)(1) to monitor, you must install, operate, and maintain a continuous parameter monitoring system according to the provisions in § 63.5995(a) through (e).

§ 63.5999 How do I demonstrate initial compliance with the emission limits for tire cord production affected sources?

(a) You must demonstrate initial compliance with each emission limit that applies to you according to Table 7 to this subpart.

(b) You must submit the Notification of Compliance Status containing the results of the initial compliance demonstration according to the requirements in § 63.6009(e).

Testing and Initial Compliance Requirements for Puncture Sealant Application Affected Sources

§ 63.6000 How do I conduct tests and procedures for puncture sealant application affected sources?

(a) Methods to determine compliance with the puncture sealant application emission limitations in Table 3 to this subpart. Use the methods and equations in paragraph (b) of this section to demonstrate initial and continuous compliance with the overall control efficiency compliance alternatives described in § 63.5989(a) and (b). Use the methods and equations in paragraphs (c) through (g) of this section to demonstrate initial and continuous compliance with the HAP constituent compliance alternative described in § 63.5989(c) and (d).

(b) Methods to determine compliance with the emission limits in Table 3 to this subpart, option 1. Follow the test procedures described in § 63.5993 to determine the overall control efficiency of your system.

(1) You must also meet the requirements in paragraphs (b)(1)(i) and (ii) of this section.

(i) Conduct the performance test using a puncture sealant with an average mass percent HAP content that is representative of the puncture sealants typically used at your puncture sealant application affected source.

(ii) Establish all applicable operating limit ranges that correspond to the control system efficiency as described in Table 5 to this subpart.

(2) Use Equation 1 of this section to calculate the overall efficiency of the control system. If you have a permanent total enclosure that satisfies EPA Method 204 (found in 40 CFR part 51, appendix M) criteria, assume 100 percent capture efficiency for variable F. Equation 1 follows:

Where:

R=overall control system efficiency, percent.

F=capture efficiency of the capture system on add-on control device, percent, determined during the performance test.

E=control efficiency of add-on control device k, percent, determined during the performance test.

(3) Monitor the established operating limits as appropriate.

(i) If you use a thermal oxidizer, monitor the firebox secondary chamber temperature.

(ii) If you use a carbon adsorber, monitor the total regeneration stream mass or volumetric flow for each regeneration cycle, and the carbon bed temperature after each regeneration, and within 15 minutes of completing any cooling cycle.

(iii) For each control device used other than a thermal oxidizer or a regenerative carbon adsorber, install and operate a continuous parameter monitoring system according to your site-specific performance test plan submitted according to § 63.7(c)(2)(i).

(iv) If you use a permanent total enclosure, monitor the face velocity across the NDO in the enclosure. Also, if you use an enclosure, monitor to ensure that the sizes of the NDO have not changed, that there are no new NDO, and that a HAP emission source has not been moved closer to an NDO since the last performance test was conducted.

(v) If you use other capture systems, monitor the parameters identified in your monitoring plan.

(vi) Maintain the operating parameter within the operating range established during the performance test.

(c) Methods to determine the mass percent of each HAP in puncture sealants. To determine the HAP content in the puncture sealant used at your puncture sealant application affected source, use EPA Method 311 of appendix A of 40 CFR part 63, an approved alternative method, or any other reasonable means for determining the HAP content of your puncture sealants. Other reasonable means include, but are not limited to: an MSDS, provided it contains appropriate information; a CPDS; or a manufacturer's hazardous air pollutant data sheet. You are not required to test the materials that you use, but the Administrator may require a test using EPA Method 311 (or an approved alternative method) to confirm the reported HAP content. If the results of an analysis by EPA Method 311 are different from the HAP content determined by another means, the EPA Method 311 results will govern compliance determinations.

(d) Methods to determine compliance with the emission limits in Table 3 to this subpart, option 2. Use the equations in this paragraph (d) to demonstrate initial and continuous compliance with the HAP constituent emission limits for puncture sealant application affected sources using the compliance alternatives described in § 63.5989(c) and (d).

(1) Use Equation 2 of this section to calculate the monthly average HAP emission rate when complying by using puncture sealants without using an add-on control device to show that the monthly average HAP emissions do not exceed the emission limits in Table 3 to this subpart, option 2. Equation 2 follows:

Where:

Emonth=mass of the specific HAP emitted per total mass of puncture sealants from all puncture sealants used at the puncture sealant affected source per month, grams per megagram.

HAPi=mass percent, expressed as a decimal, of the specific HAP in puncture sealant i, including any application booth dilution, determined in accordance with paragraph (c) of this section.

TPSEALi=total mass of puncture sealant i used in the month, grams.

n=number of puncture sealants used in the month.

(2) Use Equation 3 of this section to calculate the monthly average HAP emission rate when complying by using puncture sealants by using an add-on control device to show that the monthly average HAP emissions do not exceed the emission limits in Table 3 to this subpart, option 2. Equation 3 follows:

Where:

Emonth=mass of the specific HAP emitted per total mass of puncture sealants used at the puncture sealant affected source per month, grams per megagram.

HAPi=mass percent, expressed as a decimal, of the specific HAP in puncture sealant i, including any application booth dilution, determined in accordance with paragraph (c) of this section for puncture sealants used in the month in processes that are not routed to a control device.

TPSEALi=total mass of puncture sealant i used in the month in processes that are not routed to a control device, gram.

n=number of puncture sealants used in the month in processes that are not routed to a control device.

HAPj=mass percent, expressed as a decimal, of the specific HAP, in puncture sealant j, including any application booth dilution, determined in accordance with paragraph (c) of this section, for puncture sealants used in the month in processes that are routed to a control device during operating days, which are defined as days when the control system is operating within the operating range established during the performance test and when monitoring data are collected.

TPSEALj=total mass of puncture sealant j used in the month in processes that are routed to a control device during all operating days, grams.

EFF=efficiency of the control system determined during the performance test (capture system efficiency multiplied by the control device efficiency), percent.

m=number of puncture sealants used in the month that are routed to a control device during all operating days.

HAPk=mass percent, expressed as a decimal, of the specific HAP, in puncture sealant k, including any application booth dilution, for puncture sealants used in the month in processes that are routed to a control device during non-control operating days, which are defined as days when either the control system is not operating within the operating range established during the performance test or when monitoring data are not collected.

TPSEALk=total mass of total mass of puncture sealant k used in the month in processes that are routed to a control device during all non-control operating days, grams.

p=number of puncture sealants used in the month that are routed to a control device during all non-control operating days.

(3) Each monthly calculation is a compliance demonstration for the purpose of this subpart.

(e) Specific compliance demonstration requirements for puncture sealant application affected sources. (1) Conduct any required compliance demonstrations according to the requirements in § 63.5993.

(2) Conduct the compliance demonstration using a puncture sealant with average mass percent HAP content that is representative of the puncture sealants typically used at your puncture sealant application affected source.

(3) Establish an operating range that corresponds to the appropriate control efficiency described in Table 5 to this subpart.

(f) How to take credit for HAP emissions reductions from add-on control devices. If you want to take credit in Equation 3 of this section for HAP emissions reduced using a control system, you must monitor the established operating parameters as appropriate and meet the requirements in paragraph (b)(3) of this section.

(g) How to take credit for HAP emissions reductions when streams are combined. When performing material balances to demonstrate compliance, if the storage of materials, exhaust, or the wastewater from more than one affected source are combined at the point where control systems are applied, any credit for emissions reductions needs to be prorated among the affected sources based on the ratio of their contribution to the uncontrolled emissions.

§ 63.6001 What are my monitoring installation, operation, and maintenance requirements?

For each operating limit that you are required by § 63.6000(b)(3) to monitor or each operating parameter that you are required by § 63.6000(f) to monitor, you must install, operate, and maintain a continuous parameter monitoring system according to the provisions in § 63.5995(a) through (e).

§ 63.6002 How do I demonstrate initial compliance with the emission limits for puncture sealant application affected sources?

(a) You must demonstrate initial compliance with each emission limit that applies to you according to Table 8 to this subpart.

(b) You must submit the Notification of Compliance Status containing the results of the initial compliance demonstration according to the requirements in § 63.6009(e).

Continuous Compliance Requirements for Tire Production Affected Sources

§ 63.6003 How do I monitor and collect data to demonstrate continuous compliance with the emission limits for tire production affected sources?

(a) You must monitor and collect data as specified in Table 9 to this subpart.

(b) Except for periods of monitoring malfunctions, associated repairs, and required quality assurance or control activities (including, as applicable, calibration checks and required zero and span adjustments), you must monitor continuously (or collect data at all required intervals) while the affected source is operating. This includes periods of startup, shutdown, and malfunction when the affected source is operating.

(c) In data average calculations and calculations used to report emission or operating levels, you may not use data recorded during periods of monitoring malfunctions or associated repairs, or recorded during required quality assurance or control activities. Such data may not be used in fulfilling any applicable minimum data availability requirement. You must use all the data collected during all other periods in assessing the operation of the control device and associated control system.

§ 63.6004 How do I demonstrate continuous compliance with the emission limits for tire production affected sources?

(a) You must demonstrate continuous compliance with each applicable limit in Table 1 to this subpart using the methods specified in Table 10 to this subpart.

(b) You must report each instance in which you did not meet an emission limit in Table 1 to this subpart. You must also report each instance in which you did not meet the applicable requirements in Table 10 to this subpart. These instances are deviations from the emission limits in this subpart. The deviations must be reported in accordance with the requirements in § 63.6010(e).

(c) You also must meet the following requirements if you are complying with the purchase alternative for tire production sources described in § 63.5985(a):

(1) If, after you submit the Notification of Compliance Status, you use a cement or solvent for which you have not previously verified percent HAP mass using the methods in § 63.5994(a), you must verify that each cement and solvent used in the affected source meets the emission limit, using any of the methods in § 63.5994(a).

(2) You must update the list of all the cements and solvents used at the affected source.

(3) With the compliance report for the reporting period during which you used the new cement or solvent, you must submit the updated list of all cements and solvents and a statement certifying that, as purchased, each cement and solvent used at the affected source during the reporting period met the emission limits in Table 1 to this subpart.

Continuous Compliance Requirements for Tire Cord Production Affected Sources

§ 63.6005 How do I monitor and collect data to demonstrate continuous compliance with the emission limits for tire cord production affected sources?

(a) You must monitor and collect data to demonstrate continuous compliance with the emission limits for tire cord production affected sources as specified in Table 11 to this subpart.

(b) You must monitor and collect data according to the requirements in § 63.6003(b) and (c).

§ 63.6006 How do I demonstrate continuous compliance with the emission limits for tire cord production affected sources?

(a) You must demonstrate continuous compliance with each applicable emission limit in Table 2 to this subpart using the methods specified in Table 12 to this subpart.

(b) You must report each instance in which you did not meet an applicable emission limit in Table 2 to this subpart. You must also report each instance in which you did not meet the applicable requirements in Table 12 to this subpart. These instances are deviations from the emission limits in this subpart. The deviations must be reported in accordance with the requirements in § 63.6010(e).

Continuous Compliance Requirements for Puncture Sealant Application Affected Sources

§ 63.6007 How do I monitor and collect data to demonstrate continuous compliance with the emission limitations for puncture sealant application affected sources?

(a) You must monitor and collect data to demonstrate continuous compliance with the emission limitations for puncture sealant application affected sources as specified in Table 13 to this subpart.

(b) You must monitor and collect data according to the requirements in § 63.6003(b) and (c).

§ 63.6008 How do I demonstrate continuous compliance with the emission limitations for puncture sealant application affected sources?

(a) You must demonstrate continuous compliance with each applicable emission limitation in Tables 3 and 4 to this subpart using the methods specified in Table 14 to this subpart.

(b) You must report each instance in which you did not meet an applicable emission limit in Table 3 to this subpart. You must also report each instance in which you did not meet the applicable requirements in Table 14 to this subpart. These instances are deviations from the emission limits in this subpart. The deviations must be reported in accordance with the requirements in § 63.6010(e).

Notifications, Reports, and Records

§ 63.6009 What notifications must I submit and when?

(a) You must submit all of the notifications in §§ 63.7 (b) and (c), 63.8(f) (4) and (6), and 63.9 (b) through (e) and (h) that apply to you by the dates specified.

(b) As specified in § 63.9(b)(2), if you startup your affected source before July 9, 2002, you must submit an Initial Notification not later than November 6, 2002.

(c) As specified in § 63.9(b)(3), if you startup your new or reconstructed affected source on or after July 9, 2002, you must submit an Initial Notification not later than 120 calendar days after you become subject to this subpart.

(d) If you are required to conduct a performance test, you must submit a notification of intent to conduct a performance test at least 60 calendar days before the performance test is scheduled to begin as required in § 63.7(b)(1).

(e) If you are required to conduct a performance test, design evaluation, or other initial compliance demonstration as specified in Tables 5 through 8 to this subpart, you must submit a Notification of Compliance Status according to § 63.9(h)(2)(ii). The Notification must contain the information listed in Table 15 to this subpart for compliance reports. The Notification of Compliance Status must be submitted according to the following schedules, as appropriate:

(1) For each initial compliance demonstration required in Tables 6 through 8 to this subpart that does not include a performance test, you must submit the Notification of Compliance Status before the close of business on the 30th calendar day following the completion of the initial compliance demonstration.

(2) For each initial compliance demonstration required in Tables 6 through 8 to this subpart that includes a performance test conducted according to the requirements in Table 5 to this subpart, you must submit the Notification of Compliance Status, including the performance test results, before the close of business on the 60th calendar day following the completion of the performance test according to § 63.10(d)(2).

(f) For each tire production affected source, the Notification of Compliance Status must also identify the emission limit option in § 63.5984 and the compliance alternative in § 63.5985 that you have chosen to meet.

(g) For each tire production affected source complying with the purchase compliance alternative in § 63.5985(a), the Notification of Compliance Status must also include the information listed in paragraphs (g)(1) and (2) of this section.

(1) A list of each cement and solvent, as purchased, that is used at the affected source and the manufacturer or supplier of each.

(2) The individual HAP content (percent by mass) of each cement and solvent that is used.

(h) For each tire production or tire cord production affected source using a control device, the Notification of Compliance Status must also include the information in paragraphs (h) (1) and (2) of this section for each operating parameter in §§ 63.5994(e)(1) and 63.5997(e)(1) that applies to you.

(1) The operating parameter value averaged over the full period of the performance test (e.g., average secondary chamber firebox temperature over the period of the performance test was 1,500 degrees Fahrenheit).

(2) The operating parameter range within which HAP emissions are reduced to the level corresponding to meeting the applicable emission limits in Tables 1 and 2 to this subpart.

(i) For each puncture sealant application affected source using a control device, the Notification of Compliance Status must include the information in paragraphs (i)(1) and (2) of this section for each operating limit in § 63.6000(b)(3) and each operating parameter in § 63.6000(f).

(1) The operating limit or operating parameter value averaged over the full period of the performance test.

(2) The operating limit or operating parameter range within which HAP emissions are reduced to the levels corresponding to meeting the applicable emission limitations in Table 3 to this subpart.

(j) For each tire cord production affected source required to assess the predominant use for coating web substrates as required by § 63.5981(b), you must submit a notice of the results of the reassessment within 30 days of completing the reassessment. The notice shall specify whether this subpart XXXX is still the applicable subpart and, if it is not, which part 63 subpart is applicable.

§ 63.6010 What reports must I submit and when?

(a) You must submit each applicable report in Table 15 to this subpart.

(b) Unless the Administrator has approved a different schedule for submission of reports under § 63.10(a), you must submit each report by the date in Table 15 to this subpart and according to the requirements in paragraphs (b)(1) through (5) of this section.

(1) The first compliance report must cover the period beginning on the compliance date that is specified for your affected source in § 63.5983 and ending on June 30 or December 31, whichever date is the first date following the end of the first calendar half after the compliance date that is specified for your source in § 63.5983.

(2) The first compliance report must be postmarked or delivered no later than July 31 or January 31, whichever date follows the end of the first calendar half after the compliance date that is specified for your affected source in § 63.5983.

(3) Each subsequent compliance report must cover the semiannual reporting period from January 1 through June 30 or the semiannual reporting period from July 1 through December 31.

(4) Each subsequent compliance report must be postmarked or delivered no later than July 31 or January 31, whichever date is the first date following the end of the semiannual reporting period.

(5) For each affected source that is subject to permitting subparts pursuant to 40 CFR part 70 or 40 CFR part 71, and if the permitting authority has established dates for submitting semiannual reports pursuant to 40 CFR 70.6(a)(3)(iii)(A) or 40 CFR 71.6(a)(3)(iii)(A), you may submit the first and subsequent compliance reports according to the dates the permitting authority has established instead of according to the dates in paragraphs (b)(1) through (4) of this section.

(c) The compliance report must contain information specified in paragraphs (c)(1) through (10) of this section.

(1) Company name and address.

(2) Statement by a responsible official, with that official's name, title, and signature, certifying the accuracy of the content of the report.

(3) Date of report and beginning and ending dates of the reporting period.

(4) If you had a startup, shutdown or malfunction during the reporting period and you took actions consistent with your startup, shutdown, and malfunction plan, the compliance report must include the information in § 63.10(d)(5)(i).

(5) If there are no deviations from any emission limitations (emission limit or operating limit) that applies to you, a statement that there were no deviations from the emission limitations during the reporting period.

(6) If there were no periods during which the operating parameter monitoring systems were out-of-control as specified in § 63.8(c)(7), a statement that there were no periods during which the operating parameter monitoring systems or CPMS were out-of-control during the reporting period.

(7) For each tire production affected source, the emission limit option in § 63.5984 and the compliance alternative in § 63.5985 that you have chosen to meet.

(8) For each tire production affected source complying with the purchase compliance alternative in § 63.5985(a), and for each annual reporting period during which you use a cement and solvent that, as purchased, was not included in the list submitted with the Notification of Compliance Status in § 63.6009(g), an updated list of all cements and solvents used, as purchased, at the affected source. You must also include a statement certifying that each cement and solvent, as purchased, that was used at the affected source during the reporting period met the HAP constituent limits (option 1) in Table 1 to this subpart.

(9) For each tire cord production affected source, the emission limit option in § 63.5986 and the compliance alternative in § 63.5987 that you have chosen to meet.

(10) For each puncture sealant application affected source, the emission limit option in § 63.5988 and the compliance alternative in § 63.5989 that you have chosen to meet.

(d) For each deviation from an emission limitation (emission limit or operating limit) that occurs at an affected source where you are not using a CPMS to comply with the emission limitations in this subpart, the compliance report must contain the information in paragraphs (c)(1) through (4) and paragraphs (d)(1) and (2) of this section. This includes periods of startup, shutdown, and malfunction when the affected source is operating.

(1) The total operating time of each affected source during the reporting period.

(2) Information on the number, duration, and cause of deviations (including unknown cause, if applicable) and the corrective action taken.

(e) Each affected source that has obtained a title V operating permit pursuant to 40 CFR part 70 or 40 CFR part 71 must report all deviations as defined in this subpart in the semiannual monitoring report required by 40 CFR 70.6(a)(3)(iii)(A) or 40 CFR 71.6(a)(3)(iii)(A). If an affected source submits a compliance report (pursuant to Table 10 to this subpart along with, or as part of, the semiannual monitoring report required by 40 CFR 70.6(a)(3)(iii)(A) or 40 CFR 71.6(a)(3)(iii)(A) which includes all required information concerning deviations from any emission limitation (including any operating limit) or work practice requirement in this subpart, submission of the compliance report shall be deemed to satisfy any obligation to report the same deviations in the semiannual monitoring report. However, submission of a compliance report shall not otherwise affect any obligation the affected source may have to report deviations from permit requirements to the permit authority.

(f) Upon notification to the Administrator that a tire production affected source has eliminated or reformulated cement and solvent so that the source can demonstrate compliance using the purchase alternative in § 63.5985(a), future compliance reports for this affected source may be submitted annually.

(g) If acceptable to both the Administrator and you, you may submit reports and notifications electronically.

§ 63.6011 What records must I keep?

(a) You must keep the records specified in paragraphs (a)(1) through (3) of this section.

(1) A copy of each notification and report that you submitted to comply with this subpart, including all documentation supporting any Initial Notification or Notification of Compliance Status that you submitted, according to the requirements in § 63.10(b)(2)(xiv).

(2) Records of performance tests as required in § 63.10(b)(2)(viii).

(3) The records in § 63.6(e)(3)(iii) through (v) related to startup, shutdown, and malfunction.

(b) For each tire production affected source, you must keep the records specified in Table 9 to this subpart to show continuous compliance with each emission limit that applies to you.

(c) For each tire cord production affected source, you must keep the records specified in Table 11 to this subpart to show continuous compliance with each emission limit that applies to you.

(d) For each puncture sealant application affected source, you must keep the records specified in Table 13 to this subpart to show continuous compliance with each emission limit that applies to you.

§ 63.6012 In what form and how long must I keep my records?

(a) Your records must be in a form suitable and readily available for expeditious review, according to § 63.10(b)(1).

(b) As specified in § 63.10(b)(1), you must keep each record for 5 years following the date of each occurrence, measurement, maintenance, corrective action, report, or record.

(c) You must keep each record on site for at least 2 years after the date of each occurrence, measurement, maintenance, corrective action, report, or record, according to § 63.10(b)(1). You can keep the records offsite for the remaining 3 years.

Other Requirements and Information

§ 63.6013 What parts of the General Provisions apply to me?

Table 17 to this subpart shows which parts of the General Provisions in §§ 63.1 through 63.15 apply to you.

§ 63.6014 Who implements and enforces this subpart?

(a) This subpart can be implemented and enforced by us, the United States Environmental Protection Agency, or a delegated authority such as your State, local, or tribal agency. If the U.S. EPA has delegated authority to your State, local, or tribal agency, then that agency, in addition to the U.S. EPA, has the authority to implement and enforce this subpart. You should contact your U.S. EPA Regional Office to find out if implementation and enforcement of this subpart is delegated to your State, local, or tribal agency.

(b) In delegating implementation and enforcement authority of this subpart to a State, local, or tribal agency under 40 CFR part 63, subpart E, the authorities contained in paragraph (c) of this section are retained by the Administrator of the U.S. EPA and are not transferred to the State, local, or tribal agency.

(c) The authorities that cannot be delegated to State, local, or tribal agencies are listed in paragraphs (c)(1) through (4) of this section.

(1) Approval of alternatives to the requirements in §§ 63.5981 through 63.5984, 63.5986, and 63.5988.

(2) Approval of major changes to test methods under § 63.7(e)(2)(ii) and (f) and as defined in § 63.90.

(3) Approval of major changes to monitoring under § 63.8(f) and as defined in § 63.90.

(4) Approval of major changes to recordkeeping and reporting under § 63.10(f) and as defined in § 63.90.

§ 63.6015 What definitions apply to this subpart?

Terms used in this subpart are defined in the Clean Air Act and in § 63.2, the General Provisions. The following are additional definitions of terms used in this subpart:

As purchased means the condition of a cement and solvent as delivered to the facility, prior to any mixing, blending, or dilution.

Capture system means a hood, enclosed room, or other means of collecting organic HAP emissions into a closed-vent system that conveys these emissions to a control device.

Cements and solvents means the collection of all organic chemicals, mixtures of chemicals, and compounds used in the production of rubber tires, including cements, solvents, and mixtures used as process aids. Cements and solvents include, but are not limited to, tread end cements, undertread cements, bead cements, tire building cements and solvents, green tire spray, blemish repair paints, side wall protective paints, marking inks, materials used to process equipment, and slab dip mixtures. Cements and solvents do not include coatings or process aids used in tire cord production, puncture sealant application, rubber processing, or materials used to construct, repair, or maintain process equipment, or chemicals and compounds that are not used in the tire production process such as materials used in routine janitorial or facility grounds maintenance, office supplies (e.g., dry-erase markers, correction fluid), architectural paint, or any substance to the extent it is used for personal, family, or household purposes, or is present in the same form and concentration as a product packaged for distribution to and use by the general public.

Coating means a compound or mixture of compounds that is applied to a fabric substrate in the tire cord production operation that allows the fabric to be prepared (e.g., by heating, setting, curing) for incorporation into a rubber tire.

Components of rubber tires means any piece or part used in the manufacture of rubber tires that becomes an integral portion of the rubber tire when manufacture is complete and includes mixed rubber compounds, sidewalls, tread, tire beads, and liners. Other components often associated with rubber tires such as wheels, valve stems, tire bladders and inner tubes are not considered components of rubber tires for the purposes of these standards. Tire cord and puncture sealant, although components of rubber tires, are considered as separate affected sources in these standards and are defined separately.

Control device means a combustion device, recovery device, recapture device, or any combination of these devices used for recovering or oxidizing organic hazardous air pollutant vapors. Such equipment includes, but is not limited to, absorbers, carbon adsorbers, condensers, incinerators (oxidizers), flares, boilers, and process heaters.

Control system efficiency means the percent of total volatile organic compound emissions, as measured by EPA Method 25 or 25A (40 CFR part 60, appendix A), recovered or destroyed by a control device multiplied by the percent of total volatile organic compound emissions, as measured by Method 25 or 25A, that are captured and conveyed to the control device.

Deviation means any instance in which an affected source, subject to this subpart, or an owner or operator of such a source:

(1) Fails to meet any requirement or obligation established by this subpart including, but not limited to, any emission limitation (including any operating limit) or work practice standard;

(2) Fails to meet any term or condition that is adopted to implement an applicable requirement in this subpart and that is included in the operating permit for any affected source required to obtain such a permit; or

(3) Fails to meet any emission limitation (including any operating limit) or work practice standard in this subpart during startup, shutdown, or malfunction, regardless of whether or not such failure is permitted by this subpart.

Emission limitation means any emission limit, opacity limit, operating limit, or visible emission limit.

Fabric processed means the amount of fabric coated and finished for use in subsequent product manufacturing.

Mixed rubber compound means the material, commonly referred to as rubber, from which rubber tires and components of rubber tires are manufactured. For the purposes of this definition, mixed rubber compound refers to the compound that leaves the rubber mixing process (e.g., banburys) and is then processed into components from which rubber tires are manufactured.

Monthly operating period means the period in the Notification of Compliance Status report comprised of the number of operating days in the month.

Operating day means the period defined in the Notification of Compliance Status report. It may be from midnight to midnight or a portion of a 24-hour period.

Process aid means a solvent, mixture, or cement used to facilitate or assist in tire component identification; component storage; tire building; tire curing; and tire repair, finishing, and identification.

Puncture sealant means a mixture that may include, but is not limited to, solvent constituents, mixed rubber compound, and process oil that is applied to the inner liner of a finished tire for the purpose of sealing any future hole which might occur in the tread when an object penetrates the tire.

Responsible official means responsible official as defined in 40 CFR 70.2.

Rubber means the sum of the materials (for example, natural rubber, synthetic rubber, carbon black, oils, sulfur) that are combined in specific formulations for the sole purpose of making rubber tires or components of rubber tires.

Rubber mixing means the physical process of combining materials for use in rubber tire manufacturing to make mixed rubber compound using the collection of banburys and associated drop mills.

Rubber tire means a continuous solid or pneumatic cushion typically encircling a wheel and usually consisting, when pneumatic, of an external rubber covering.

Rubber used means the total mass of mixed rubber compound delivered to the tire production operations in a tire manufacturing facility (e.g., the collection of warm-up mills, extruders, calendars, tire building, or other tire component and tire manufacturing equipment).

Tire cord means any fabric (e.g., polyester, cotton) that is treated with a coating mixture that allows the fabric to more readily accept impregnation with rubber to become an integral part of a rubber tire.

Tables to Subpart XXXX of Part 63

As stated in § 63.5984, you must comply with the emission limits for each new, reconstructed, or existing tire production affected source in the following table:

Table 1 to Subpart XXXX of Part 63.—Emission Limits for Tire Production Affected Sources
For each . . . | You must meet the following emission limits.
1. Option 1—HAP constituent option | a. Emissions of each HAP in Table 16 to this subpart must not exceed 1,000 grams HAP per megagram (2 pounds per ton) of total cements and solvents used at the tire production affected source, and b. Emissions of each HAP not in Table 16 to this subpart must not exceed 10,000 grams HAP per megagram (20 pounds per ton) of total cements and solvents used at the tire production affected source.
2. Option 2—production-based option | Emissions of HAP must not exceed 0.024 grams per megagram (0.00005 pounds per ton) of rubber used at the tire production affected source.

As stated in § 63.5986, you must comply with the emission limits for tire cord production affected sources in the following table:

Table 2 to Subpart XXXX of Part 63.—Emission Limits for Tire Cord Production Affected Sources
For each . . . | You must meet the following emission limits.
1. Option 1.a (production-based option)—Existing tire cord production affected source | Emissions must not exceed 280 grams HAP per megagram (0.56 pounds per ton) of fabric processed at the tire cord production affected source.
2. Option 1.b (production-based option)—New or reconstructed tire cord production affected source | Emissions must not exceed 220 grams HAP per megagram (0.43 pounds per ton) of fabric processed at the tire cord production affected source.
3. Option 2 (HAP constituent option)—Existing, new or reconstructed tire cord production affected source | a. Emissions of each HAP in Table 16 to this subpart must not exceed 1,000 grams HAP per megagram (2 pounds per ton) of total coatings used at the tire cord production affected source, and b. Emissions of each HAP not in Table 16 to this subpart must not exceed 10,000 grams HAP per megagram (20 pounds per ton) of total coatings used at the tire cord production affected source.

As stated in § 63.5988(a), you must comply with the emission limits for puncture sealant application affected sources in the following table:

Table 3 to Subpart XXXX of Part 63.—Emission Limits for Puncture Sealant Application Affected Sources
For each . . . | You must meet the following emission limit.
1. Option 1.a (percent reduction option)—Existing puncture sealant application spray booth | Reduce spray booth HAP (measured as volatile organic compounds (VOC)) emissions by at least 86 percent by weight.
2. Option 1.b (percent reduction option)—New or reconstructed puncture sealant application spray booth | Reduce spray booth HAP (measured as VOC) emissions by at least 95 percent by weight.
3. Option 2 (HAP constituent option) Existing, new or reconstructed puncture sealant application spray booth | a. Emissions of each HAP in Table 16 to this subpart must not exceed 1,000 grams HAP per megagram (2 pounds per ton) of total puncture sealants used at the puncture sealant affected source, and b. Emissions of each HAP not in Table 16 to this subpart must not exceed 10,000 grams HAP per megagram (20 pounds per ton) of total puncture sealants used at the puncture sealant affected source.

As stated in § 63.5988(b), you must comply with the operating limits for puncture sealant application affected sources in the following table unless you are meeting Option 2 (HAP constituent option) limits in Table 3 to this subpart:

Table 4 to Subpart XXXX of Part 63.—Operating Limits for Puncture Sealant Application Control Devices
For each . . . | You must . . .
1. Thermal oxidizer to which puncture sealant application spray booth emissions are ducted | Maintain the daily average firebox secondary chamber temperature within the operating range established during the performance test.
2. Carbon adsorber (regenerative) to which puncture sealant application spray booth emissions are ducted | a. Maintain the total regeneration mass, volumetric flow, and carbon bed temperature at the operating range established during the performance test. b. Reestablish the carbon bed temperature to the levels established during the performance test within 15 minutes of each cooling cycle.
3. Other type of control device to which puncture sealant application spray booth emissions are ducted | Maintain your operating parameter(s) within the range(s) established during the performance test and according to your monitoring plan.
4. Permanent total enclosure capture system | a. Maintain the face velocity across any NDO at least at the levels established during the performance test. b. Maintain the size of NDO, the number of NDO, and their proximity to HAP emission sources consistent with the parameters established during the performance test.
5. Other capture system | Maintain the operating parameters within the range(s) established during the performance test and according to your monitoring plan.

As stated in § 63.5993, you must comply with the requirements for performance tests in the following table:

Table 5 to Subpart XXXX of Part 63.—Requirements for Performance Tests
If you are using . . . | You must . . . | Using . . . | According to the following requirements . . .
1. A thermal oxidizer | a. Measure total HAP emissions, determine destruction efficiency of the control device, and establish a site-specific firebox secondary chamber temperature limit at which the emission limit that applies to the affected source is achieved | i. Method 25 or 25A performance test and data from the temperature monitoring system | (1). Measure total HAP emissions and determine the destruction efficiency of the control device using Method 25 (40 CFR part 60, appendix A). You may use Method 25A (40 CFR part 60, appendix A) if: an exhaust gas volatile organic matter concentration of 50 parts per million (ppmv) or less is required to comply with the standard; the volatile organic matter concentration at the inlet to the control system and the required level of control are such that exhaust volatile organic matter concentrations are 50 ppmv or less; or because of the high efficiency of the control device exhaust, is 50 ppmv or less, regardless of the inlet concentration. (2). Collect firebox secondary chamber temperature data every 15 minutes during the entire period of the initial 3-hour performance test, and determine the average firebox temperature over the 3-hour performance test by computing the average of all of the 15-minute reading.
2. A carbon adsorber (regenerative) | a. Measure total organic HAP emissions, establish the total regeneration mass or volumetric flow, and establish the temperature of the carbon bed within 15 minutes of completing any cooling cycles. The total regeneration mass, volumetric flow, and carbon bed temperature must be those at which the emission limit that applies to the affected source is achieved | i. Method 25 or Method 25A performance test and data from the carbon bed temperature monitoring device | (1). Measure total HAP emissions using Method 25. You may use Method 25A, if an exhaust gas volatile organic matter concentration of 50 ppmv or less; or because of the high efficiency of the control device, exhaust is 50 ppmv or less is required to comply with the standard; the volatile organic matter concentration (VOMC) at the inlet to the control system and the required level of control are such that exhaust VOMCs are 50 ppmv or less; or because of the high efficiency of the control device, exhaust is 50 ppmv or less, regardless of the inlet concentration. (2). Collect carbon bed total regeneration mass or volumetric flow for each carbon bed regeneration cycle during the performance test. (3). Record the maximum carbon bed temperature data for each carbon bed regeneration cycle during the performance test. (4). Record the carbon bed temperature within 15 minutes of each cooling cycle during the performance test. (5). Determine the average total regeneration mass or the volumetric flow over the 3-hour performance test by computing the average of all of the readings. (6). Determine the average maximum carbon bed temperature over the 3-hour performance test by computing the average of all of the readings. (7). Determine the average carbon bed temperature within 15 minutes of the cooling cycle over the 3-hour performance test.
3. Any control device other than a thermal oxidizer or carbon adsorber | Determine control device efficiency and establish operating parameter limits with which you will demonstrate continuous compliance with the emission limit that applies to the affected source | EPA-approved methods and data from the continuous parameter monitoring system | Conduct the performance test according to the site-specific plan submitted according to § 63.7(c)(2)(i).
4. All control devices | a. Select sampling ports' location and the number of traverse ports | Method 1 or 1A of 40 CFR part 60, appendix A | Locate sampling sites at the inlet and outlet of the control device and prior to any releases to the atmosphere.
| b. Determine velocity and volumetric flow rate | Method 2, 2A, 2C, 2D, 2F, or 2G of 40 CFR part 60, appendix A
| c. Conduct gas analysis | Method 3, 3A, or 3B of 40 CFR part 60 appendix A
| d. Measure moisture content of the stack gas | Method 4 of 40 CFR part 60, appendix A
5. A permenent total enclosure (PTE) | Measure the face velocity across natural draft openings and document the design features of the enclosure | Method 204 of CFR part 51, appendix M | Capture efficiency is assumed to be 100 percent if the criteria are met
6. Temporary total enclosure (TTE) | Construct a temporarily installed enclosure that allows you to determine the efficiency of your capture system and establish operating parameter limits | Method 204 and the appropriate combination of Methods 204A-204F of 40 CFR part 51, appendix M

As stated in § 63.5996, you must show initial compliance with the emission limits for tire production affected sources according to the following table:

Table 6 to Subpart XXXX of Part 62.—Initial Compliance With the Emission Limits for Tire Production Affected Sources
For . . . | For the following emission limit . . . | You have demonstrated initial compliance if . . .
1. Sources complying with the purchase compliance alternative in § 63.5985(a) | The HAP constituent option in Table 1 to this subpart, option 1 | You demonstrate for each monthly period that no cements and solvents were purchased and used at the affected source containing HAP in amounts above the composition limits in Table 1 to this subpart, option 1, determined according to the procedures in § 63.5994(a) and (b)(1).
2. Sources complying with the monthly average compliance alternative without using a control device in § 63.5985(b) | The HAP constituent option in Table 1 to this subpart, option 1 | You demonstrate that the monthly average HAP emissions for each monthly operating period do not exceed the emission limits in Table 1 to this subpart, option 1, determined according to the applicable procedures in § 63.5994(a) and (b)(2).
3. Sources complying with the monthly average compliance alternative using a control device in § 63.5985(c) | The HAP constituent option in Table 1 to this subpart, option 1 | You demonstrate that the monthly average HAP emissions for each monthly operating period do not exceed the emission limits in Table 1 to this subpart, option 1, determined according to the applicable procedures in § 63.5994(a), (b)(3) and (4), and (d) through (f).
4. Sources complying with the monthly average compliance alternative without use of a control device in § 63.5985(b) | The production-based option in Table 1 to this subpart, option 2 | You demonstrate that the monthly average HAP emissions for each monthly operating period do not exceed the emission limits in Table 1 to this subpart, option 2, determined according to the applicable procedures in § 63.5994(c)(1) through (3).
5. Sources complying with the monthly average compliance alternative using a control device in § 63.5985(c) | The production-based option in Table 1 to this subpart, option 2 | You demonstrate that the monthly average HAP emissions for each monthly operating period do not exceed the emission limits in Table 1 to this subpart, option 2, determined according to the applicable procedures in § 63.5994(c)(1) and (2), (4) and (5), and (d) through (f).

As stated in § 63.5999, you must show initial compliance with the emission limits for tire cord production affected sources according to the following table:

Table 7 to Subpart XXXX of Part 63.—Initial Compliance With the Emission Limits for Tire Cord Production Affected Sources
For . . . | For the following emission limit . . . | You have demonstrated initial compliance if . . .
1. Sources complying with the monthly average alternative without using an add-on control device according to § 63.5987(a) | The production-based option in Table 2 to this subpart, option 1 | You demonstrate that the monthly average HAP emissions for each monthly operating period do not exceed the emission limits in Table 2 to this subpart, option 1, determined according to the procedures in § 63.5997(a), (b)(1) and (2).
2. Sources complying with the monthly average alternative using an add-on control device according to § 63.5987(b) | The production-based option in Table 2 to this subpart, option 1 | You demonstrate that the monthly average HAP emissions for each monthly operating period do not exceed the emission limits in Table 2 to this subpart, option 1, determined according to the procedures in § 63.5997(a), (b)(1) and (3) through (4), and (d) through (f).
3. Sources complying with the monthly average alternative without using an add-on control device according to § 63.5987(a) | The HAP constituent option in Table 2 to this subpart, option 2 | You demonstrate that the monthly average HAP emissions for each monthly operating period do not exceed the HAP constituent emission limits in Table 2 to this subpart, option 2, determined according to the applicable procedures in § 63.5997(a) and (c)(1) and (2).
4. Sources complying with the monthly average alternative using an add-on control device according to § 63.5987(b) | The HAP constituent option in Table 2 to this subpart, option 2 | You demonstrate that the monthly average HAP emissions for each monthly operating period do not exceed the HAP constituent emission limits in Table 2 to this subpart, option 2, determined according to the applicable procedures in § 63.5997(c)(1) and (3) through (4), and (d) through (f).

As stated in § 63.6002, you must show initial compliance with the emission limits for puncture sealant application affected sources according to the following table:

Table 8 to Subpart XXXX of Part 63.—Initial Compliance With the Emission
For . . . | For the following emission limit . . . | You have demonstrated initial compliance if . . .
1. Sources complying with the overall control efficiency alternative in § 63.5989(a) | The percent reduction option in Table 3 to this subpart, option 1 | You demonstrate that you conducted the performance tests, determined the overall efficiency of your control system, demonstrated that the applicable limits in Table 3 to this subpart, option 1, have been achieved, and established the operating limits in Table 4 of this subpart for your equipment according to the applicable procedures in § 63.6000(b).
2. Sources complying with the permanent total enclosure and control device efficiency alternative in § 63.5989(b) | The percent reduction option in Table 3 to this subpart, option 1 | You demonstrate that you conducted the performance tests, determined the individual efficiencies of your capture and control systems, demonstrated that the applicable limits in Table 3 to this subpart, option 1, have been achieved, and established the operating limits in Table 4 of this subpart for your equipment according to the applicable procedures in § 63.6000(b).
3. Sources complying with the monthly average alternative in § 63.5989(c) without using an add-on control device | The HAP constituent option in Table 3 to this subpart, option 2 | You demonstrate that the monthly average HAP emissions for each monthly operating period do not exceed the HAP constituent emission limits in Table 3 to this subpart, option 2, determined according to the applicable procedures in § 63.6000(c) and (d)(1).
4. Sources complying with the HAP constituent alternative in § 63.5989(d) by using an add-on control device | The HAP constituent option in Table 3 to this subpart, option 2 | You demonstrate that the monthly average HAP emissions for each monthly operating period do not exceed the HAP constituent emission limits in Table 3 to this subpart, option 2, determined according to the applicable procedures in § 63.6000(c), (d)(2) and (3), and (e) through (f).

As stated in § 63.6003, you must maintain minimum data to show continuous compliance with the emission limits for tire production affected sources according to the following table:

Table 9 to Subpart XXXX of Part 63.—Minimum Data for Continuous Compliance With the Emission Limits for Tire Production Affected Sources
For . . . | You must maintain . . .
1. Sources complying with purchase compliance alternative in § 63.5985(a) that are meeting the HAP constituent emission limit (option 1) in Table 1 to this subpart | a. A list of each cement and solvent as purchased and the manufacturer or supplier of each. b. A record of Method 311 (40 CFR part 60, appendix A), or approved alternative method, test results indicating the mass percent of each HAP for each cement and solvent as purchased.
2. Sources complying with the monthly average compliance alternative without using a control device according to § 63.5985(b) that are meeting emission limits in Table 1 to this subpart | a. A record of Method 311, or approved alternative method, test results, indicating the mass percent of each HAP for each cement and solvent, as purchased. b. The mass of each cement and solvent used each monthly operating period. c. The total mass of rubber used each monthly operating period (if complying with the production-based emission limit, option 2, in Table 1 to this subpart). d. All data and calculations used to determine the monthly average mass percent for each HAP for each monthly operating period. e. Monthly averages of emissions in the appropriate emission limit format.
3. Sources complying with the monthly average compliance alternative using a control device according to § 63.5985(c) that are meeting emission limits in Table 1 to this subpart | a. The same information as sources complying with the monthly average alternative without using a control device. b. Records of operating parameter values for each operating parameter that applies to you.

As stated in § 63.6004, you must show continuous compliance with the emission limits for tire production affected sources according to the following table:

Table 10 to Subpart XXXX of Part 63.—Continuous Compliance With the Emission Limits for Tire Production Affected Sources
For . . . | For the following emission limit . . . | You must demonstrate continuous compliance by . . .
1. Sources complying with purchase compliance alternative in § 63.5985(a) | The HAP constituent option in Table 1 to this subpart, option 1 | Demonstrating for each monthly period that no cements and solvents were purchased and used at the affected source containing HAP in amounts above the composition limits in Table 1 to this subpart, option 1, determined according to the procedures in § 63.5994(a) and (b)(1).
2. Sources complying with the monthly average compliance alternative without using a control device according to § 63.5985(b) | The HAP constituent option in Table 1 to this subpart, option 1 | Demonstrating that the monthly average HAP emissions for each monthly operating period do not exceed the emission limits in Table 1 to this subpart, option 1, determined according to the applicable procedures in § 63.5994(a) and (b)(2).
3. Sources complying with the monthly average compliance alternative using a control device according to § 63.5985(c) | The HAP constituent option in Table 1 to this subpart, option 1 | Demonstrating that the monthly average HAP emissions for each monthly operating period do not exceed the emission limits in Table 1 to this subpart, option 1, determined according to the applicable procedures in § 63.5994(a), (b)(3) and (4), and (d) through (f).
4. Sources complying with the monthly average compliance alternative without using a control device according to § 63.5985(b) | The production-based option in Table 1 to this subpart, option 2 | Demonstrating that the monthly average HAP emissions for each monthly operating period do not exceed the emission limits in Table 1 to this subpart, option 2, determined according to the applicable procedures in § 63.5994(c)(1) through (3).
5. Sources complying with the monthly average compliance alternative using a control device according to § 63.5985(c) | The production-based option in Table 1 to this subpart, option 2 | Demonstrating that the monthly average HAP emissions for each monthly operating period do not exceed the emission limits in Table 1 to this subpart, option 2, determined according to the applicable procedures in § 63.5994(c)(1) and (2), (4) and (5), and (d) through (f).

As stated in § 63.6005, you must maintain minimum data to show continuous compliance with the emission limits for tire cord production affected sources according to the following table:

Table 11 to Subpart XXXX of Part 63.—Minimum Data for Continuous Compliance With the Emission Limits for Tire Cord Production Affected Sources
For . . . | You must maintain . . .
1. Sources complying with the monthly average alternative without using an add-on control device according to § 63.5987(a) that are meeting emission limits in Table 2 to this subpart | a. A record of Method 311 (40 CFR part 63, appendix A), or approved alternative method, test results, indicating the mass percent of each HAP for coating used. b. The mass of each coating used each monthly operating period. c. The total mass of fabric processed each monthly operating period (if complying with the production-based option in Table 2 to this subpart, option 1). d. All data and calculations used to determine the monthly average mass percent for each HAP for each monthly operating period. e. Monthly averages of emissions in the appropriate emission emission limit format.
2. Sources complying with the monthly average alternative using an add-on control device according to § 63.5987(b) that are meeting emission limits in Table 2 to this subpart | a. The same information as sources complying with the monthly average alternative without using a control device. b. Records of operating parameter values for each operating parameter that applies to you.

As stated in § 63.6006, you must show continuous compliance with the emission limits for tire cord production affected sources according to the following table:

Table 12 to Subpart XXXX of Part 63.—Continuous Compliance With the Emission Limits for Tire Cord Production Affected Sources
For . . . | For the following emission limit . . . | You must demonstrate continuous compliance by . . .
1. Sources complying with the monthly average compliance alternative without using an add-on control device according to § 63.5987(a) | In Table 2 to this subpart | a. Demonstrating that the monthly average HAP emissions for each monthly operating period do not exceed the emission limits in Table 2 to this subpart, option 1, determined according to the applicable procedures in § 63.5997(a) and (b)(1) and (2). b. Demonstrating that the monthly average HAP emissions for each monthly operating period do not exceed the HAP constituent emission limits in Table 2 to this subpart, option 2, determined according to the applicable procedures in § 63.5997(a) and (c)(1) and (2).
2. Sources complying with the monthly average compliance alternative using an add-on control device according to § 63.5987(b) | In Table 2 to this subpart | a. Demonstrating that the monthly average HAP emissions for each monthly operating period do not exceed the emission limits in Table 2 to this subpart, option 1, determined according to the applicable procedures in § 63.5997(a), (b)(1) and (3) through (4), and (d) through (f). b. Demonstrating that the monthly HAP emissions for each monthly operating period do not exceed the HAP constituent emission limits in Table 2 to this subpart, option 2, determined according to the applicable procedures in § 63.5997(c)(1) and (3) through (4), and (d) through (f).

As stated in § 63.6007, you must maintain minimum data to show continuous compliance with the emission limitations for puncture sealant application affected sources according to the following table:

Table 13 to Subpart XXXX of Part 63.—Minimum Data for Continuous Compliance With the Emission Limitations for Puncture Sealant Application Affected Sources
For . . . | You must maintain . . .
1. Sources complying with the control efficiency alternatives in § 63.5989(a) or (b) that are meeting the percent reduction emission limits in Table 3 to this subpart, option 1, using a thermal oxidizer to reduce HAP emissions so that they do not exceed the operating limits in Table 4 to this subpart | Records of the secondary chamber firebox temperature for 100 percent of the hours during which the process was operated.
2. Sources complying with the control efficiency alternatives in § 63.5989(a) or (b) that are meeting the percent reduction emission limits in Table 3 to this subpart, option 1, using a carbon adsorber to reduce HAP emissions so that they do not exceed the operating limits in Table 4 to this subpart | Records of the total regeneration stream mass or volumetric flow for each regeneration cycle for 100 percent of the hours during which the process was operated, and a record of the carbon bed temperature after each regeneration, and within 15 minutes of completing any cooling cycle for 100 percent of the hours during which the process was operated.
3. Sources complying with the control efficiency alternatives in § 63.5989(a) or (b) that are meeting the percent reduction emission limits in Table 3 to this subpart, option 1, using any other type of control device to which puncture sealant application spray booth HAP emissions are ducted so that they do not exceed the operating limits in Table 4 to this subpart | Records of operating parameter values for each operating parameter that applies to you.
4. Sources complying with the permanent total enclosure compliance alternative in § 63.5989(b) that are meeting the percent reduction emission limits in Table 3 to this subpart, option 1, using a permanent total enclosure capture system to capture HAP emissions so that they do not exceed the operating limits in Table 4 to this subpart | Records of the face velocity across any NDO, the size of NDO, the number of NDO, and their proximity to HAP emission sources.
5. Sources complying with the overall control efficiency alternative in § 63.5989(a) that are meeting the percent reduction emission limits in Table 3 to this subpart, option 1, using any other capture system to capture HAP emissions so that they do not exceed the operating limits in Table 4 to this subpart | Records of operating parameter values for each operating parameter that applies to you.
6. Sources complying with the monthly average alternative without using an add-on control device according to § 63.5988(a) that are meeting the HAP constituent emission limits in Table 3 to this subpart, option 2 | a. A record of Method 311 (40 CFR part 63, appendix A), or approved alternative method, test results, indicating the mass percent of each HAP for puncture sealant used. b. The mass of each puncture sealant used each monthly operating period. c. All data and calculations used to determine the monthly average mass percent for each HAP for each monthly operating period. d. Monthly averages of emissions in the appropriate emission limit format.
7. Sources complying with the monthly average alternative using an add-on control device according to § 63.5988(a) that are meeting the HAP constituent emission limits in Table 3 to this subpart, option 2 | a. The same information as sources complying with the monthly average alternative that are not using a control device. b. Records of operating parameter values for each operating parameter that applies to you.

As stated in § 63.6008, you must show continuous compliance with the emission limitations for puncture sealant application affected sources according to the following table:

Table 14 to Subpart XXXX of Part 63.—Continuous Compliance With the Emission Limitations for Puncture Sealant Application Affected Sources
For . . . | You must demonstrate continuous compliance by . . .
1. Each carbon adsorber used to comply with the operating limits in Table 4 to this subpart | a. Monitoring and recording every 15 minutes the total regeneration stream mass or volumetric flow, and the carbon bed temperature after each regeneration, and within 15 minutes of completing any cooling cycle, and b. Maintaining the total regeneration stream mass or volumetric flow, and the carbon bed temperature after each regeneration, and within 15 minutes of completing any cooling cycle within the operating levels established during your performance test.
2. Each thermal oxidizer used to comply with operating limits in Table 4 to this subpart | a. Continuously monitoring and recording the firebox temperature every 15 minutes, and b. Maintaining the daily average firebox temperature within the operating level established during your performance test.
3. Other “add-on” control or capture system hardware used to comply with the operating limits in Table 4 to this subpart | Continuously monitoring and recording specified parameters identified through compliance testing and identified in the Notification of Compliance Status report.
4. Sources complying with the monthly average compliance alternative without using an add-on control device according to § 63.5989(c) that are meeting the HAP constituent emission limits in Table 3 to this subpart, option 2 | Demonstrating that the monthly average HAP emissions for each monthly operating period do not exceed the HAP constituent emission limits in Table 3 to this subpart, option 2, determined according to the applicable procedures in § 63.6000(c) and (d)(1).
5. Sources complying with the monthly average compliance alternative by using an add-on control device according to § 63.5989(d) that are the HAP constituent emission limits in Table 3 to this subpart, option 2 | Demonstrating that the monthly average HAP emissions for each monthly operating period do not exceed the HAP constituent emission limits in Table 3 to this subpart, option 2, determined according to the applicable procedures in § 63.6000(c), (d)(2) and (3), and (e) through (g).

As stated in § 63.6010, you must submit each report that applies to you according to the following table:

Table 15 to Subpart XXXX of Part 63.—Requirements for Reports
You must submit a(n) | The report must contain . . . | You must submit the report . . .
1. Compliance report | a. If there are no deviations from any emission limitations that apply to you, a statement that there were no deviations from the emission limitations during the reporting period. If there were no periods during which the CPMS was out-of-control as specified in § 63.8(c)(7), a statement that there were no periods during which the CPMS was out-of-control during the reporting period | Semiannually according to the requirements in § 63.6010(b), unless you meet the requirements for annual reporting in § 63.6010(f).
| b. If you have a deviation from any emission limitation during the reporting period at an affected source where you are not using a CPMS, the report must contain the information in § 63.6010(d). If the deviation occurred at a source where you are using a CMPS or if there were periods during which the CPMS were out-of-control as specified in § 63.8(c)(7), the report must contain the information required by § 63.5990(f)(3) | Semiannually according to the requirements in § 63.6010(b), unless you meet the requirements for annual reporting in § 63.6010(f).
| c. If you had a startup, shutdown or malfunction during the reporting period and you took actions consistent with your startup, shutdown, and malfunction plan, the compliance report must include the information in § 63.10(d)(5)(i) | Semiannually according to the requirements in § 63.6010(b), unless you meet the requirements for annual reporting in § 63.6010(f).
2. Immediate startup, shutdown, and malfunction report if you had a startup, shutdown, or malfunction during the reporting period that is not consistent with your startup, shutdown, and malfunction plan. | a. Actions taken for the event | By fax or telephone within 2 working days after starting actions inconsistent with the plan.
| b. The information in § 63.10(d)(5)(ii) | By letter within 7 working days after the end of the event unless you have made alternative arrangements with the permitting authority (§ 63.10(d)(5)(ii)).

You must use the information listed in the following table to determine which emission limit in the HAP constituent options in Tables 1 through 3 to this subpart is applicable to you:

Table 16 to Subpart XXXX of Part 63.—Selected Hazardous Air Pollutants
CAS No. | Selected hazardous air pollutants
50000 | Formaldehyde
51796 | Ethyl carbamate (Urethane)
53963 | 2-Acetylaminofluorene
56235 | Carbon tetrachloride
57147 | 1,1-Dimethyl hydrazine
57578 | beta-Propiolactone
58899 | Lindane (all isomers)
59892 | N-Nitrosomorpholine
60117 | Dimethyl aminoazobenzene
62759 | N-Nitrosodimethylamine
64675 | Diethyl sulfate
67663 | Chloroform
67721 | Hexachloroethane
71432 | Benzene (including benzene from gasoline)
75014 | Vinyl chloride
75070 | Acetaldehyde
75092 | Methylene chloride (Dichloromethane)
75218 | Ethylene oxide
75558 | 1,2-Propylenimine (2-Methyl aziridine)
75569 | Propylene oxide
77781 | Dimethyl sulfate
79061 | Acrylamide
79447 | Dimethyl carbamoyl chloride
79469 | 2-Nitropropane
88062 | 2,4,6-Trichlorophenol
91941 | 3,3-Dichlorobenzidene
92671 | 4-Aminobiphenyl
92875 | Benzidine
95534 | o-Toluidine
95807 | 2,4-Toluene diamine
96128 | 1,2-Dibromo-3-chloropropane
96457 | Ethylene thiourea
98077 | Benzotrichloride
101144 | 4,4-Methylene bis(2-chloroaniline)
101779 | 4,4-Methylenedianiline
106467 | 1,4-Dichlorobenzene(p)
106898 | Epichlorohydrin (l-Chloro-2,3-epoxypropane)
106934 | Ethylene dibromide (Dibromoethane)
106990 | 1,3-Butadiene
107062 | Ethylene dichloride (1,2-Dichloroethane)
107131 | Acrylonitrile
107302 | Chloromethyl methyl ether
117817 | Bis(2-ethylhexyl)phthalate (DEHP)
118741 | Hexachlorobenzene
119904 | 3,3-Dimethoxybenzidine
119937 | 3,3-Dimethyl benzidine
122667 | 1,2-Diphenylhydrazine
123911 | 1,4-Dioxane (1,4-Diethyleneoxide)
127184 | Tetrachloroethylene (Perchloroethylene)
140885 | Ethyl acrylate
302012 | Hydrazine
542756 | 1,3-Dichloropropene
542881 | Bis(chloromethyl)ether
680319 | Hexamethylphosphoramide
684935 | N-Nitroso-N-methylurea
1120714 | 1,3-Propane sultone
1332214 | Asbestos
1336363 | Polychlorinated biphenyls (Aroclors)
1746016 | 2,3,7,8-Tetrachlorodibenzo-p-dioxin
8001352 | Toxaphene (chlorinated camphene)
| Arsenic Compounds
| Chromium Compounds
| Coke Oven Emissions

As stated in § 63.6013, you must comply with the applicable General Provisions (GP) requirements according to the following table:

Table 17 to Subpart XXXX of Part 63.—Applicability of General Provisions to This Subpart XXXX
Citation | Subject | Brief description of applicable sections | Applicable to Subpart XXXX?: Using a control device | Applicable to Subpart XXXX?: Not using a control device
§ 63.1 | Applicability | Initial applicability determination; applicability after standard established; permit requirements; extensions; notifications | Yes | Yes.
§ 63.2 | Definitions | Definitions for part 63 standards | Yes | Yes.
§ 63.3 | Units and Abbreviations | Units and abbreviations for part 63 standards | Yes | Yes.
§ 63.4 | Prohibited Activities | Prohibited activities; compliance date; circumvention; severability | Yes | Yes.
§ 63.5 | Construction/Reconstruction | Applicability; applications; approvals | Yes | Yes.
§ 63.6(a) | Applicability | GP apply unless compliance extension; GP apply to area sources that become major | Yes | Yes.
§ 63.6(b)(1)-(4) | Compliance Dates for New and Reconstructed Sources | Standards apply at effective date; 3 years after effective date; upon startup; 10 years after construction or reconstruction commences for section 112(f) | Yes | Yes.
§ 63.6(b)(5) | Notification | Must notify if commenced construction or reconstruction after proposal | Yes | Yes.
§ 63.6(b)(6) | [Reserved]
§ 63.6(b)(7) | Compliance Dates for New and Reconstructed Area Sources that Become Major |  | No | No.
§ 63.6(c)(1)-(2) | Compliance Dates for Existing Sources | Comply according to date in subpart, which must be no later than 3 years after effective date; for CAA section 112(f) standards, comply within 90 days of effective date unless compliance extension | Yes | Yes.
§ 63.6(c)(3)-(4) | [Reserved]
§ 63.6(c)(5) | Compliance Dates for Existing Area Sources that Become Major | Area sources that become major must comply with major source standards by date indicated in subpart or by equivalent time period (for example, 3 years) | Yes | Yes.
§ 63.6(d) | [Reserved]
§ 63.6(e)(1)-(2) | Operation & Maintenance | Operate to minimize emissions at all times; correct malfunctions as soon as practicable; and operation and maintenance requirements independently enforceable; information Administrator will use to determine if operation and maintenance requirements were met | Yes | Yes.
§ 63.6(e)(3) | Startup, Shutdown, and Malfunction Plan (SSMP) |  | Yes | No.
§ 63.6(f)(1) | Compliance Except During SSM |  | Yes | No.
§ 63.6(f)(2)-(3) | Methods for Determining Compliance | Compliance based on performance test; operation and maintenance plans; records; inspection | Yes | Yes.
§ 63.6(g)(1)-(3) | Alternative Standard | Procedures for getting an alternative standard | Yes | Yes.
§ 63.6(h) | Opacity/Visible Emission (VE) Standards |  | No | No.
§ 63.6(i) | Compliance Extension | Procedures and criteria for Administrator to grant compliance extension | Yes | Yes.
§ 63.6(j) | Presidential Compliance Exemption | President may exempt source category from requirement to comply with rule | Yes | Yes.
§ 63.7(a)(1)-(2) | Performance Test Dates |  | No | No.
§ 63.7(a)(3) | CAA section 114 Authority | Administrator may require a performance test under CAA section 114 at any time | Yes | No.
§ 63.7(b)(1) | Notification of Performance Test | Must notify Administrator 60 days before the test | Yes | No.
§ 63.7(b)(2) | Notification of Rescheduling | If rescheduling a performance test is necessary, must notify Administrator 5 days before scheduled date of rescheduled date | Yes | No.
§ 63.7(c) | Quality Assurance/Test Plan | Requirement to submit site-specific test plan 60 days before the test or on date Administrator agrees with: test plan approval procedures; performance audit requirements; and internal and external quality assurance procedures for testing | Yes | No.
§ 63.7(d) | Testing Facilities | Requirements for testing facilities | Yes | No.
§ 63.7(e)(1) | Conditions for Conducting Performance Tests | Performance tests must be conducted under representative conditions; cannot conduct performance tests during SSM; not a violation to exceed standard during SSM | Yes | No.
§ 63.7(e)(2) | Conditions for Conducting Performance Tests | Must conduct according to rule and EPA test methods unless Administrator approves alternative | Yes | No.
§ 63.7(e)(3) | Test Run Duration | Must have three test runs of at least 1 hour each; compliance is based on arithmetic mean of three runs; and conditions when data from an additional test run can be used | Yes | No.
§ 63.7(f) | Alternative Test Method | Procedures by which Administrator can grant approval to use an alternative test method | Yes | No.
§ 63.7(g) | Performance Test Data Analysis | Must include raw data in performance test report; must submit performance test data 60 days after end of test with the Notification of Compliance Status report; and keep data for 5 years | Yes | No.
§ 63.7(h) | Waiver of Tests | Procedures for Administrator to waive performance test | Yes | No.
§ 63.8(a)(1) | Applicability of Monitoring Requirements | Subject to all monitoring requirements in standard | Yes | Yes.
§ 63.8(a)(2) | Performance Specifications | Performance Specifications in appendix B of 40 CFR part 60 apply | Yes | No.
§ 63.8(a)(3) | [Reserved]
§ 63.8(a)(4) | Monitoring with Flares |  | No | No.
§ 63.8(b)(1) | Monitoring | Must conduct monitoring according to standard unless Administrator approves alternative | Yes | Yes.
§ 63.8(b)(2)-(3) | Multiple Effluents and Multiple Monitoring Systems | Specific requirements for installing monitoring systems; must install on each effluent before it is combined and before it is released to the atmosphere unless Administrator approves otherwise; if more than one monitoring system on an emission point, must report all monitoring system results, unless one monitoring system is a backup | Yes | Yes.
§ 63.8(c)(1) | Monitoring System Operation and Maintenance | Maintain monitoring system in a manner consistent with good air pollution control practices | Applies as modified by § 63.5990(e) and (f) | No.
§ 63.8(c)(1)(i) | Routine and Predictable SSM |  | No | No.
§ 63.8(c)(1)(ii) | SSM not in SSMP |  | No | No.
§ 63.8(c)(1)(iii) | Compliance with Operation and Maintenance Requirements | How Administrator determines if source complying with operation and maintenance requirements; review of source operation and maintenance procedures, records, manufacturer's instructions, recommendations, and inspection of monitoring system | Yes | Yes.
§ 63.8(c)(2)-(3) | Monitoring System Installation | Must install to get representative emission and parameter measurements; must verify operational status before or at performance test | Yes | No.
§ 63.8(c)(4) | Continuous Monitoring System (CMS) Requirements |  | Applies as modified by § 63.5990(f) | No.
§ 63.8(c)(5) | Continuous Opacity Monitoring Systems (COMS) Minimum Procedures |  | No | No.
§ 63.8(c)(6) | CMS Requirements |  | Applies as modified by § 63.5990(e) | No.
§ 63.8(c)(7)-(8) | CMS Requirements | Out-of-control periods, including reporting | Yes | No.
§ 63.8(d) | CMS Quality Control |  | Applies as modified by § 63.5990(e) and (f) | No.
§ 63.8(e) | CMS Performance Evaluation |  | No | No.
§ 63.8(f)(1)-(5) | Alternative Monitoring Method | Procedures for Administrator to approve alternative monitoring | Yes | Yes.
§ 63.8(f)(6) | Alternative to Relative Accuracy Test |  | No | No.
§ 63.8(g) | Data Reduction |  | Applies as modified by § 63.5990(f) | No.
§ 63.9(a) | Notification Requirements | Applicability and state delegation | Yes | Yes.
§ 63.9(b)(1)-(5) | Initial Notifications | Submit notification 120 days after effective date; notification of intent to construct/reconstruct, notification of commencement of construct/reconstruct, notification of startup; and contents of each | Yes | Yes.
§ 63.9(c) | Request for Compliance Extension | Can request if cannot comply by date or if installed best available control technology or lowest achievable emission rate | Yes | Yes.
§ 63.9(d) | Notification of Special Compliance Requirements for New Source | For sources that commence construction between proposal and promulgation and want to comply 3 years after effective date | Yes | Yes.
§ 63.9(e) | Notification of Performance Test | Notify Administrator 60 days prior | Yes | No.
§ 63.9(f) | Notification of VE/Opacity Test | No | No
§ 63.9(g) | Additional Notifications When Using CMS | No | No
§ 63.9(h) | Notification of Compliance Status | Contents; due 60 days after end of performance test or other compliance demonstration, except for opacity/VE, which are due 30 days after; when to submit to Federal vs. State authority | Yes | Yes.
§ 63.9(i) | Adjustment of Submittal Deadlines | Procedures for Administrator to approve change in when notifications must be submitted | Yes | Yes.
§ 63.9(j) | Change in Previous Information | Must submit within 15 days after the change | Yes | Yes.
§ 63.10(a) | Recordkeeping/Reporting | Applies to all, unless compliance extension; when to submit to Federal vs. State authority; procedures for owners of more than 1 source | Yes | Yes.
§ 63.10(b)(1) | Recordkeeping/Reporting | General Requirements; keep all records readily available; and keep for 5 years. | Yes | Yes.
§ 63.10(b)(2)(i)-(iv) | Records related to Startup, Shutdown, and Malfunction. | Yes | No
§ 63.10(b)(2)(vi) and (x)-(xi) | CMS Records | Malfunctions, inoperative, out-of-control; calibration checks; adjustments, maintenance | Yes | No.
§ 63.10(b)(2) (vii)-(ix) | Records | Measurements to demonstrate compliance with emission limitations; performance test, performance evaluation, and visible emission observation results; and measurements to determine conditions of performance tests and performance evaluations | Yes | Yes.
§ 63.10(b)(2) (xii) | Records | Records when under waiver | Yes | Yes.
§ 63.10(b)(2) (xiii) | Records |  | No | No.
§ 63.10(b)(2) (xiv) | Records | All documentation supporting Initial Notification and Notification of Compliance Status | Yes | Yes.
§ 63.10(b)(3) | Records | Applicability determinations | Yes | Yes.
§ 63.10(c) | Records |  | No | No.
§ 63.10(d)(1) | General Reporting Requirements | Requirement to report | Yes | Yes.
§ 63.10(d)(2) | Report of Performance Test Results | When to submit to Federal or State authority | Yes | No.
§ 63.10(d)(3) | Reporting Opacity or VE Observations |  | No | No.
§ 63.10(d)(4) | Progress Reports | Must submit progress reports on schedule if under compliance extension | Yes | Yes.
§ 63.10(d)(5) | Startup, Shutdown, and Malfunction Reports |  | Yes | No.
§ 63.10(e) | Additional CMS Reports |  | No | No.
§ 63.10(f) | Waiver for Recordkeeping/Reporting | Procedures for Administrator to waive | Yes | Yes.
§ 63.11 | Flares |  | No | No.
§ 63.12 | Delegation | State authority to enforce standards | Yes | Yes.
§ 63.13 | Addresses | Addresses where reports, notifications, and requests are sent | Yes | Yes.
§ 63.14 | Incorporation by Reference | Test methods incorporated by reference | Yes | Yes.
§ 63.15 | Availability of Information | Public and confidential information | Yes | Yes.

[FR Doc. 02-12771 Filed 7-8-02; 8:45 am]

BILLING CODE 6560-50-P